DEPARTMENT OF THE INTERIOR

Fish and Wildlife Service

50 CFR Part 20

[Docket No. FWS-HQ-MB-2022-0090; FF09M31000-224-FXMB1231099BPP0]

RIN 1018-BF64

Migratory Bird Hunting; 2023-2024 Seasons for Certain Migratory Game Birds

AGENCY: Fish and Wildlife Service, Interior.

ACTION: Final rule.

SUMMARY: This rule prescribes the seasons, hours, areas, and daily bag and possession limits for hunting migratory birds. Taking of migratory birds is prohibited unless specifically provided for by annual regulations. This rule permits the taking of designated species during the 2023-24 season.

DATES: This rule takes effect on August 18, 2023.

ADDRESSES: You may inspect comments received on the migratory bird hunting regulations at https://www.regulations.gov at Docket No. FWS-HQ-MB-2022-0090. You may obtain copies of referenced reports from the Division of Migratory Bird Management's website at https://www.fws.gov/migratorybirds/ or at https://www.regulations.gov at Docket No. FWS-HQ-MB-2022-0090.

FOR FURTHER INFORMATION CONTACT: Jerome Ford, U.S. Fish and Wildlife Service, Department of the Interior, (703) 358-2606. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Regulations Schedule for 2023

On November 3, 2022, we published in the Federal Register (87 FR 66247) a proposal to amend title 50 of the Code of Federal Regulations (CFR) at part 20. The proposal provided a background and overview of the migratory bird hunting regulations process and addressed the establishment of seasons, limits, and other regulations for hunting migratory game birds under §§ 20.100 through 20.107, 20.109, and 20.110 of subpart K. Major steps in the 2023-24 regulatory cycle relating to open public meetings and Federal Register notifications were illustrated in the diagram at the end of the November 3, 2022, proposed rule. For this regulatory cycle, we combined the elements described in that diagram as “Supplemental Proposals” with the one described as “Proposed Season Frameworks.”

We provided the meeting dates and locations for the Service Regulations Committee (SRC) on our website at https://www.fws.gov/event/us-fish-and-wildlife-service-migratory-bird-regulations-committee-meeting and Flyway Council meetings on flyway calendars posted on our website at https://www.fws.gov/partner/migratory-bird-program-administrative-flyways. On October 12-13, 2022, we held open meetings with the Flyway Council Consultants, at which the participants reviewed information on the current status of migratory game birds and developed recommendations for the 2023-24 regulations for these species. The November 3, 2022, proposed rule provided detailed information on the proposed 2023-24 regulatory schedule.

On January 30, 2023, we published in the Federal Register (88 FR 6054) the proposed frameworks for migratory game bird hunting regulations during the 2023-24 season. On August 11, 2023, we published in the Federal Register (88 FR 54830) the final frameworks for migratory game bird hunting regulations, from which State wildlife conservation agency officials selected seasons, hours, areas, and limits for hunting migratory birds during the 2023-24 season.

The final rule described here is the final in the series of proposed, supplemental, and final rulemaking documents for migratory game bird hunting regulations for the 2023-24 season and deals specifically with amending subpart K of 50 CFR part 20. It sets hunting seasons, hours, areas, and limits for migratory game bird species. This final rule is the culmination of the annual rulemaking process allowing migratory game bird hunting, which started with the November 3, 2022, proposed rule. As discussed elsewhere in this document, we supplemented that proposal on January 30, 2023, and published final season frameworks on August 11, 2023, that provided the regulatory frameworks from which the States selected their hunting seasons. This final rule sets the migratory game bird hunting seasons based on that input from the States. We previously addressed all comments in the August 11, 2023, Federal Register (88 FR 54830).

Required Determinations

National Environmental Policy Act (NEPA) Consideration

The programmatic document, “Second Final Supplemental Environmental Impact Statement: Issuance of Annual Regulations Permitting the Sport Hunting of Migratory Birds (EIS 20130139),” filed with the Environmental Protection Agency (EPA) on May 24, 2013, addresses NEPA (42 U.S.C. 4321 et seq.) compliance by the Service for issuance of the annual framework regulations for hunting of migratory game bird species. We published a notice of availability in the Federal Register on May 31, 2013 (78 FR 32686), and our record of decision on July 26, 2013 (78 FR 45376). We also address NEPA compliance for waterfowl hunting frameworks through the annual preparation of separate environmental assessments, the most recent being “Duck Hunting Regulations for 2023-24,” with its corresponding finding of no significant impact. The programmatic document, as well as the separate environmental assessment, are available on our website at https://www.fws.gov/birds/index.php or at https://www.regulations.gov at Docket No. FWS-HQ-MB-2022-0090.

Endangered Species Act Consideration

Section 7 of the Endangered Species Act of 1973, as amended (16 U.S.C. 1531 et seq.), provides that the Secretary shall insure that any action authorized, funded, or carried out is not likely to jeopardize the continued existence of any endangered species or threatened species or result in the destruction or adverse modification of critical habitat. Consequently, we conducted formal consultations to ensure that actions resulting from these regulations would not likely jeopardize the continued existence of endangered or threatened species or result in the destruction or adverse modification of their critical habitat. Findings from these consultations are included in a biological opinion, which concluded that the regulations are not likely to jeopardize the continued existence of any endangered or threatened species. Additionally, these findings may have caused modification of some regulatory measures previously proposed, and the final frameworks (88 FR 54830, August 11, 2023) reflect any such modifications. The biological opinion is available from https://www.regulations.gov at Docket No. FWS-HQ-MB-2022-0090.

Regulatory Planning and Review (Executive Orders 12866, 13563, and 14094)

Executive Order (E.O.) 12866, as reaffirmed by E.O. 13563 and E.O. 14094, provides that the Office of Information and Regulatory Affairs (OIRA) in the Office of Management and Budget (OMB) will review all significant rules. OIRA has reviewed this rule and has determined that this rule is significant because it will have an annual effect of $200 million or more on the economy.

Executive Order 13563 reaffirms the principles of E.O. 12866 while calling for improvements in the Nation's regulatory system to promote predictability, to reduce uncertainty, and to use the best, most innovative, and least burdensome tools for achieving regulatory ends. The Executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas.

Executive Order 14094 reaffirms the principles of E.O. 12866 and E.O. 13563 and states that regulatory analysis should facilitate agency efforts to develop regulations that serve the public interest, advance statutory objectives, and are consistent with E.O. 12866, E.O. 13563, and the Presidential Memorandum of January 20, 2021 (Modernizing Regulatory Review). Regulatory analysis, as practicable and appropriate, shall recognize distributive impacts and equity, to the extent permitted by law.

We have developed this rule in a manner consistent with these requirements.

An economic analysis was prepared for the 2023-24 migratory bird hunting season. This analysis was based on data from the 2011 and 2016 National Survey of Fishing, Hunting, and Wildlife-Associated Recreation (National Survey), the most recent year for which data are available. See discussion under Required Determinations, Regulatory Flexibility Act, below. This analysis estimated consumer surplus for four alternatives for duck hunting regulations. As defined by OMB in Circular A-4, consumers' surplus is the difference between what a consumer pays for a unit of a good or service and the maximum amount the consumer would be willing to pay for that unit. The duck hunting regulatory alternatives are (1) not opening a hunting season, (2) issuing restrictive regulations that allow fewer days than the 2022-23 season, (3) issuing moderate regulations that allow more days than those in Alternative 2 but fewer days than the 2022-23 season, and (4) issuing liberal regulations that allow days similar to the 2022-23 season. For the 2023-24 season, we chose Alternative 4, with an estimated consumer surplus across all flyways of $356 million. We also chose Alternative 4 for the 2009-10 through 2022-2023 seasons. The 2023-24 analysis is part of the record for this rulemaking action and is available at https://www.regulations.gov at Docket No. FWS-HQ-MB-2022-0090.

Regulatory Flexibility Act

The annual migratory bird hunting regulations have a significant economic impact on substantial numbers of small entities under the Regulatory Flexibility Act (5 U.S.C. 601 et seq.), as amended by the Small Business Regulatory Enforcement Fairness Act of 1996 (SBREFA; 5 U.S.C. 801 et seq.). We analyzed the economic impacts of the annual hunting regulations on small business entities. This analysis is updated annually. The primary source of information about hunter expenditures for migratory game bird hunting is the National Survey, which is generally conducted at 5-year intervals. The 2023 analysis is based on the 2016 National Survey and the U.S. Department of Commerce's County Business Patterns, from which it is estimated that migratory bird hunters will spend approximately $2.2 billion at small businesses in 2023. The analysis is available from https://www.regulations.gov at Docket No. FWS-HQ-MB-2022-0090.

This final rule is a major rule under 5 U.S.C. 804(2), the Small Business Regulatory Enforcement Fairness Act. For the reasons outlined above, this rule will have an annual effect on the economy of $100 million or more. However, because this rule establishes regulations for hunting seasons, we do not plan to defer the effective date under the exemption contained in 5 U.S.C. 808(1).

Paperwork Reduction Act

This rule does not contain any new collection of information that requires approval by OMB under the Paperwork Reduction Act of 1995 (44 U.S.C. 3501 et seq.). An agency may not conduct or sponsor, and a person is not required to respond to, a collection of information unless it displays a currently valid OMB control number. OMB has previously approved the information collection requirements associated with migratory bird surveys and the procedures for establishing annual migratory bird hunting seasons under the following OMB control numbers:

• 1018-0019, “North American Woodcock Singing Ground Survey” (expires 02/29/2024).

• 1018-0023, “Migratory Bird Surveys, 50 CFR 20.20” (expires 05/31/2026). Includes Migratory Bird Harvest Information Program, Migratory Bird Hunter Surveys, Sandhill Crane Survey, and Parts Collection Survey.

• 1018-0171, “Establishment of Annual Migratory Bird Hunting Seasons, 50 CFR part 20” (expires 10/31/2024).

You may view the information collection request(s) at http://www.reginfo.gov/public/do/PRAMain. An agency may not conduct or sponsor, and a person is not required to respond to, a collection of information unless it displays a currently valid OMB control number.

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this rule, has determined that this rule will not unduly burden the judicial system and that it meets the requirements of sections 3(a) and 3(b)(2) of E.O. 12988.

Takings Implication Assessment

In accordance with E.O. 12630, this rule, authorized by the Migratory Bird Treaty Act, does not have significant takings implications and does not affect any constitutionally protected property rights. This rule will not result in the physical occupancy of property, the physical invasion of property, or the regulatory taking of any property. In fact, this rule will allow hunters to exercise otherwise unavailable privileges and, therefore, reduce restrictions on the use of private and public property.

Energy Effects—Executive Order 13211

E.O. 13211 requires agencies to prepare statements of energy effects when undertaking certain actions. While this rule is a significant regulatory action under E.O. 12866, it is not expected to adversely affect energy supplies, distribution, or use. Therefore, this action is not a significant energy action and no statement of energy effects is required.

Government-to-Government Relationship With Tribes

In accordance with the President's memorandum of April 29, 1994, “Government-to-Government Relations with Native American Tribal Governments” (59 FR 22951), E.O. 13175, and 512 DM 2, we have evaluated possible effects on federally recognized Indian Tribes and have determined that there are de minimis effects on Indian trust resources. Through this process to establish annual hunting regulations, we regularly coordinate with Tribes that are affected by this rulemaking action. As noted in the November 3, 2022, proposed rule, for the 2023-24 season, we will handle Tribal regulations via a separate rulemaking in other Federal Register documents.

Federalism Effects—Executive Order 13132

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and Tribes to determine which seasons meet their individual needs. Any State or Tribe may be more restrictive than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with E.O. 13132, these regulations do not have significant federalism effects and do not have sufficient federalism implications to warrant the preparation of a federalism summary impact statement.

Review of Public Comments

The November 3, 2022, proposed rulemaking (87 FR 66247) opened the public comment period for 2023-24 migratory game bird hunting regulations. We previously addressed all comments in a August 11, 2023, Federal Register publication (88 FR 54830).

Regulations Promulgation

The rulemaking process for migratory game bird hunting, by its nature, operates under a time constraint as seasons must be established each year or hunting seasons remain closed. However, we intend that the public be provided extensive opportunity for public input and involvement in compliance with Administrative Procedure Act (5 U.S.C. subchapter II) requirements. Thus, when the preliminary proposed rulemaking was published, we established what we concluded were the longest periods possible for public comment and the most opportunities for public involvement. We also provided notification of our participation in multiple Flyway Council meetings, opportunities for additional public review and comment on all Flyway Council proposals for regulatory change, and opportunities for additional public review during the SRC meeting. Therefore, we conclude that sufficient public notice and opportunity for involvement have been given to affected persons.

Further, States need sufficient time to communicate these season selections to their affected publics, and to establish and publicize the necessary regulations and procedures to implement these seasons. Thus, we find that “good cause” exists, within the terms of 5 U.S.C. 553(d)(3) of the Administrative Procedure Act, and, therefore, under authority of the Migratory Bird Treaty Act (July 3, 1918), as amended (16 U.S.C. 703-711), these regulations will take effect less than 30 days after publication. Accordingly, with each conservation agency having had an opportunity to participate in selecting the hunting seasons desired for its State or Territory on those species of migratory birds for which open seasons are now prescribed, and consideration having been given to all other relevant matters presented, certain sections of title 50, chapter I, subchapter B, part 20, subpart K, are hereby amended as set forth below.

List of Subjects in 50 CFR Part 20

Exports, Hunting, Imports, Reporting and recordkeeping requirements, Transportation, Wildlife.

Shannon A. Estenoz,
Assistant Secretary for Fish and Wildlife and Parks.

For the reasons set out in the preamble, title 50, chapter I, subchapter B, part 20, subpart K of the Code of Federal Regulations is amended as follows:

PART 20—MIGRATORY BIRD HUNTING

1. The authority citation for part 20 continues to read as follows:

Authority: 16 U.S.C. 703 et seq., and 16 U.S.C. 742a-j.

2. Section § 20.100 is amended by adding paragraph © to read as follows:

§ 20.100 General provisions.

* * * * *

(c) Migratory Game Bird Seasons in the Atlantic Flyway: In the Atlantic Flyway States of Connecticut, Delaware, Maine, Maryland, Massachusetts, New Jersey, North Carolina, and Pennsylvania, if Sunday hunting of migratory birds is prohibited statewide by State law or regulation, all Sundays are closed to the take of all migratory game birds.

Note: The following annual hunting regulations provided for by §§ 20.101 through 20.107 and 20.109 of 50 CFR part 20 will not appear in the Code of Federal Regulations because of their seasonal nature.

3. Section 20.101 is revised to read as follows:

§ 20.101 Seasons, limits, and shooting hours for Puerto Rico and the Virgin Islands.

Subject to the applicable provisions of the preceding sections of this part, areas open to hunting, respective open seasons (dates inclusive), shooting and hawking hours, and daily bag and possession limits for the species designated in this section are prescribed as follows:

Shooting and hawking hours are one-half hour before sunrise until sunset.

CHECK COMMONWEALTH REGULATIONS FOR AREA DESCRIPTIONS AND ANY ADDITIONAL RESTRICTIONS.

(a) Puerto Rico.

Restrictions: In Puerto Rico, the season is closed on the ruddy duck, white-cheeked pintail, West Indian whistling duck, fulvous whistling duck, masked duck, purple gallinule, American coot, Caribbean coot, white-crowned pigeon, and plain pigeon.

Closed Areas: Closed areas are described in the August 11, 2023, Federal Register (88 FR 54830).

Species | Season dates | Limits: Bag | Limits: Possession
Doves and Pigeons:
Zenaida, white-winged, and mourning doves (1) | Sept. 2-Oct. 30 | 30 | 90
Scaly-naped pigeons | Sept. 2-Oct. 30 | 5 | 15
Ducks | Nov. 11-Dec. 18 & Jan. 13-Jan. 29 | 6 6 | 18 18
Common Gallinules | Nov. 11-Dec. 18 & Jan. 13-Jan. 29 | 6 6 | 18 18
Wilson's Snipe | Nov. 11-Dec. 18 & Jan. 13-Jan. 29 | 8 8 | 24 24
(1) The daily bag limit for Zenaida, white-winged, and mourning doves is in the aggregate and may include not more than 10 Zenaida and 3 mourning doves. The possession limit is three times the daily bag limit.

(b) Virgin Islands.

Restrictions: In the Virgin Islands, the seasons are closed for ground or quail doves, pigeons, ruddy duck, white-cheeked pintail, West Indian whistling duck, fulvous whistling duck, masked duck, and all other ducks, and purple gallinule.

Closed Areas: Ruth Cay, just south of St. Croix, is closed to the hunting of migratory game birds. All Offshore Cays under jurisdiction of the Virgin Islands Government are closed to the hunting of migratory game birds.

Species | Season dates | Limits: Bag | Limits: Possession
Zenaida doves | Sept. 1-Sept. 30 | 10 | 10
Ducks | Closed

4. Section 20.102 is revised to read as follows:

§ 20.102 Seasons, limits, and shooting hours for Alaska.

Subject to the applicable provisions of the preceding sections of this part, areas open to hunting, respective open seasons (dates inclusive), shooting and hawking hours, and daily bag and possession limits for the species designated in this section are prescribed as follows:

Shooting and hawking hours are one-half hour before sunrise until sunset. Area descriptions were published in the August 11, 2023, Federal Register (88 FR 54830).

Note: Light geese include lesser snow (including blue) geese, greater snow geese, and Ross's geese.

Falconry: The total combined bag and possession limit for migratory game birds taken with the use of a raptor under a falconry permit is 3 per day, 9 in possession, and may not exceed a more restrictive limit for any species listed in this section.

Special Tundra Swan Season: In Game Management Units (Units) 17, 18, 22, and 23, in the North Zone, the tundra swan season is from September 1 through October 31 with a season limit of 3 tundra swans per hunter. This season is by State permit only; hunters will be issued 1 permit allowing the take of up to 3 tundra swans. Hunters will be required to file a harvest report with the State after the season is completed. Up to 500 permits may be issued in Unit 18; 300 permits each in Units 22 and 23; and 200 permits in Unit 17.

CHECK STATE REGULATIONS FOR AREA DESCRIPTIONS AND ANY ADDITIONAL RESTRICTIONS.

Area | Season dates
North Zone | Sept. 1-Dec. 16.
Gulf Coast Zone | Sept. 1-Dec. 16.
Southeast Zone | Sept. 1-Nov. 30. Dec. 16-Dec. 31.
Pribilof and Aleutian Islands Zone | Oct. 8-Jan. 22.
Kodiak Zone | Oct. 8-Jan. 22.

Area | Daily bag and possession limits: Ducks (1) | Daily bag and possession limits: Canada & cackling geese (2)(3)(4) | Daily bag and possession limits: White-fronted geese (5)(6) | Daily bag and possession limits: Light geese | Daily bag and possession limits: Brant | Daily bag and possession limits: Emperor geese (7)(8) | Daily bag and possession limits: Snipe | Daily bag and possession limits: Sandhill cranes (9)
North Zone | 10-30 | 4-12 | 4-12 | 6-18 | 2-6 | 1-1 | 8-24 | 3-9
Gulf Coast Zone | 8-24 | 4-12 | 4-12 | 6-18 | 2-6 | 1-1 | 8-24 | 2-6
Southeast Zone | 7-21 | 4-12 | 4-12 | 6-18 | 2-6 | 1-1 | 8-24 | 2-6
Pribilof and Aleutian Islands Zone | 7-21 | 4-12 | 4-12 | 6-18 | 2-6 | 1-1 | 8-24 | 2-6
Kodiak Zone | 7-21 | 4-12 | 4-12 | 6-18 | 2-6 | 1-1 | 8-24 | 2-6
(1) The basic duck bag limits may include no more than 2 canvasbacks daily and may not include sea ducks. In addition to the basic duck limits, the sea duck limit is 10 daily, including no more than 6 each of either harlequin or long-tailed ducks. Sea ducks include scoters, common and king eiders, harlequin ducks, long-tailed ducks, and common, hooded, and red-breasted mergansers. The season for Steller's and spectacled eiders is closed.
(2) Daily bag and possession limits are in the aggregate for the two species.
(3) In Game Management Units (Units) 5 and 6, in the Gulf Coast Zone, the taking of Canada and cackling geese is only permitted from September 28 through December 16. In the Middleton Island portion of Unit 6, the taking of Canada and cackling geese is by special permit only. The maximum number of Canada and cackling geese permits is 10 for the season. A mandatory goose-identification class is required. Hunters must check in and out. The daily bag and possession limits are 1 Canada or cackling goose. The season will close if harvest includes 5 dusky Canada geese. A dusky Canada goose is any dark-breasted Canada goose (Munsell 10 YR color value five or less) with a bill length between 40 and 50 millimeters.
(4) In Unit 10, in the Pribilof and Aleutian Islands Zone, for Canada and cackling geese, the daily bag limit is 6 and the possession limit is 18.
(5) In Unit 9, in the Gulf Coast Zone, Unit 10, in the Pribilof and Aleutian Islands Zone, and Unit 17, in the North Zone, for white-fronted geese, the daily bag limit is 6 and the possession limit is 18.
(6) In Unit 18, in the North Zone, for white-fronted geese, the daily bag limit is 10 and the possession limit is 30.
(7) In Unit 8, in the Kodiak Zone, the Kodiak Island Roaded Area is closed to emperor goose hunting. The Kodiak Island Roaded Area consists of all lands and water (including exposed tidelands) east of a line extending from Crag Point in the north to the west end of Saltery Cove in the south and all lands and water south of a line extending from Termination Point along the north side of Cascade Lake extending to Anton Larsen Bay. Marine waters adjacent to the closed area are closed to harvest within 500 feet from the water's edge. The offshore islands are open to harvest, for example: Woody, Long, Gull and Puffin Islands.
(8) Emperor goose hunting is by State permit only; no more than 1 emperor goose may be harvested per hunter per season. Hunters will be required to file a harvest report with the State after harvesting an emperor goose. Total emperor goose harvest may not exceed 500 birds. See State regulations for specific dates, times, and conditions of permit hunts and closures.
(9) In Unit 17, in the North Zone, for sandhill cranes, the daily bag limit is 2 and the possession limit is 6.

5. Section 20.103 is revised to read as follows:

§ 20.103 Seasons, limits, and shooting hours for doves and pigeons.

Subject to the applicable provisions of the preceding sections of this part, areas open to hunting, respective open seasons (dates inclusive), shooting and hawking hours, and daily bag and possession limits for the species designated in this section are prescribed as follows:

Shooting and hawking hours are one-half hour before sunrise until sunset except as otherwise noted. Area descriptions were published in the August 11, 2023, Federal Register (88 FR 54830).

CHECK STATE REGULATIONS FOR AREA DESCRIPTIONS AND ANY ADDITIONAL RESTRICTIONS.

(a) Doves.

Note: Unless otherwise specified, the seasons listed in the following table are for mourning and white-winged doves. The daily bag and possession limits are in the aggregate for the two species.

Area | Season dates | Limits: Bag | Limits: Possession
EASTERN MANAGEMENT UNIT
Alabama:
North Zone:
12 noon to sunset | Sept. 2 only | 15 | 15
1/2 hour before sunrise to sunset | Sept. 3-Oct. 22 & | 15 | 45
| Nov. 18-Nov. 26 & | 15 | 45
| Dec. 16-Jan. 14 | 15 | 45
South Zone:
12 noon to sunset | Sept. 9 only | 15 | 15
1/2 hour before sunrise to sunset | Sept. 10-Oct. 29 & | 15 | 45
| Nov. 18-Nov. 26 & | 15 | 45
| Dec. 16-Jan. 14 | 15 | 45
Delaware | Sept. 1-Oct. 2 & | 15 | 45
| Nov. 20-Jan. 31 | 15 | 45
Florida | Sept. 23-Oct. 15 & | 15 | 45
| Nov. 11-Dec. 3 & | 15 | 45
| Dec. 19-Jan. 31 | 15 | 45
Georgia | Sept. 2-Oct. 8 & | 15 | 45
| Nov. 18-Nov. 26 & | 15 | 45
| Dec. 19-Jan. 31 | 15 | 45
Illinois (1) | Sept. 1-Nov. 14 & | 15 | 45
| Dec. 26-Jan. 9 | 15 | 45
Indiana | Sept. 1-Oct. 15 & | 15 | 45
| Nov. 1-Nov. 26 & | 15 | 45
| Dec. 16-Jan. 3 | 15 | 45
Kentucky:
11 a.m. to sunset | Sept. 1 only | 15 | 15
1/2 hour before sunrise to sunset | Sept. 2-Oct. 26 & | 15 | 45
| Nov. 23-Dec. 3 & | 15 | 45
| Dec. 23-Jan. 14 | 15 | 45
Louisiana:
North Zone | Sept. 2-Sept. 24 & | 15 | 45
| Oct. 7-Nov. 12 & | 15 | 45
| Dec. 23-Jan. 21 | 15 | 45
South Zone | Sept. 2-Sept. 17 & | 15 | 45
| Oct. 14-Nov. 26 & | 15 | 45
| Dec. 16-Jan. 14 | 15 | 45
Maryland:
12 noon to sunset | Sept. 1-Oct. 14 | 15 | 45
1/2 hour before sunrise to sunset | Oct. 21-Nov. 24 & | 15 | 45
| Dec. 16-Jan. 10 | 15 | 45
Mississippi:
North Zone | Sept. 2-Oct. 15 & | 15 | 45
| Oct. 28-Nov. 26 & | 15 | 45
| Dec. 30-Jan. 14 | 15 | 45
South Zone | Sept. 2-Sept. 24 & | 15 | 45
| Oct. 7-Nov. 5 & | 15 | 45
| Dec. 23-Jan. 28 | 15 | 45
North Carolina | Sept. 2-Oct. 7 & | 15 | 45
| Nov. 11-Nov. 25 & | 15 | 45
| Dec. 9-Jan. 31 | 15 | 45
Ohio (1) | Sept. 1-Nov. 5 & | 15 | 45
| Dec. 9-Jan. 1 | 15 | 45
Pennsylvania | Sept. 1-Nov. 24 | 15 | 45
| Dec. 19-Jan. 6 | 15 | 45
Rhode Island:
12 noon to sunset | Sept. 9-Oct. 8 | 15 | 45
1/2 hour before sunrise to sunset | Oct. 21-Dec. 3 & | 15 | 45
| Dec. 9-Dec. 24 | 15 | 45
South Carolina:
12 noon to sunset | Sept. 2-Sept. 4 | 15 | 45
1/2 hour before sunrise to sunset | Sept. 5-Oct. 7 & | 15 | 45
| Nov. 11-Nov. 25 & | 15 | 45
| Dec. 24-Jan. 31 | 15 | 45
Tennessee:
12 noon to sunset | Sept. 1 only | 15 | 15
1/2 hour before sunrise to sunset | Sept. 2-Sept. 28 & | 15 | 45
| Oct. 14-Nov. 5 & | 15 | 45
| Dec. 8-Jan. 15 | 15 | 45
Virginia:
12 noon to sunset | Sept. 2 only | 15 | 15
1/2 hour before sunrise to sunset | Sept. 3-Oct. 22 & | 15 | 45
| Nov. 18-Nov. 26 & | 15 | 45
| Dec. 22-Jan. 20 | 15 | 45
West Virginia:
12 noon to sunset | Sept. 1 only | 15 | 15
1/2 hour before sunrise to sunset | Sept. 2-Oct. 8 & | 15 | 45
| Oct. 30-Nov. 12 & | 15 | 45
| Dec. 18-Jan. 24 | 15 | 45
Wisconsin | Sept. 1-Nov. 9 | 15 | 45
CENTRAL MANAGEMENT UNIT
Arkansas | Sept. 2-Oct. 22 & | 15 | 45
| Dec. 8-Jan. 15 | 15 | 45
Colorado | Sept. 1-Nov. 29 | 15 | 45
Iowa | Sept. 1-Nov. 29 | 15 | 45
Kansas | Sept. 1-Nov. 29 | 15 | 45
Minnesota | Sept. 1-Nov. 29 | 15 | 45
Missouri | Sept. 1-Nov. 29 | 15 | 45
Montana | Sept. 1-Oct. 30 | 15 | 45
Nebraska | Sept. 1-Oct. 30 | 15 | 45
New Mexico:
North Zone | Sept. 1-Nov. 29 | 15 | 45
South Zone | Sept. 1-Oct. 28 & | 15 | 45
| Dec. 1-Jan. 1 | 15 | 45
North Dakota | Sept. 1-Nov. 29 | 15 | 45
Oklahoma | Sept. 1-Oct. 31 & | 15 | 45
| Dec. 1-Dec. 29 | 15 | 45
South Dakota | Sept. 1-Nov. 9 | 15 | 45
Texas (2):
North Zone | Sept. 1-Nov. 12 & | 15 | 45
| Dec. 15-Dec. 31 | 15 | 45
Central Zone | Sept. 1-Oct. 29 & | 15 | 45
| Dec. 15-Jan. 14 | 15 | 45
South Zone | Sept. 14-Oct. 29 & | 15 | 45
| Dec. 15-Jan. 21 | 15 | 45
Special White-winged Dove Area | Sept. 1-Sept. 3 & | 15 | 45
| Sept. 8-Sept. 10 | 15 | 45
Wyoming | Sept. 1-Nov. 29 | 15 | 45
WESTERN MANAGEMENT UNIT
Arizona (3) | Sept. 1-Sept. 15 & | 15 | 45
| Nov. 17-Dec. 31 | 15 | 45
California (4) | Sept. 1-Sept. 15 & | 15 | 45
| Nov. 11-Dec. 25 | 15 | 45
Idaho | Sept. 1-Oct. 30 | 15 | 45
Nevada | Sept. 1-Oct. 30 | 15 | 45
Oregon:
Zone 1 | Sept. 1-Sept. 30 & | 15 | 45
| Nov. 15-Dec. 14 | 15 | 45
Zone 2 | Sept. 1-Oct. 30 | 15 | 45
Utah | Sept. 1-Oct. 30 | 15 | 45
Washington | Sept. 1-Oct. 30 | 15 | 45
OTHER POPULATIONS
Hawaii (5) | Nov. 4-Jan. 14 | 10 | 30
(1) In Illinois and Ohio, shooting hours are sunrise to sunset.
(2) In Texas, the daily bag limit is 15 mourning, white-winged, and white-tipped doves in the aggregate, of which no more than 2 may be white-tipped doves with a maximum 90-day season. Possession limits are three times the daily bag limit. During the special season in the Special White-winged Dove Area of the South Zone, the daily bag limit is 15 mourning, white-winged, and white-tipped doves in the aggregate, of which no more than 2 may be mourning doves and no more than 2 may be white-tipped doves. Possession limits are three times the daily bag limit. Shooting hours in the Special White-winged Dove area are from noon to sunset.
(3) In Arizona, during September 1 through 15, the daily bag limit is 15 mourning and white-winged doves in the aggregate, of which no more than 10 may be white-winged doves. During November 17 through December 31, the daily bag limit is 15 mourning doves.
(4) In California, the daily bag limit is 15 mourning and white-winged doves in the aggregate, of which no more than 10 may be white-winged doves.
(5) In Hawaii, the season is open only on the islands of Hawaii and Maui. On the island of Hawaii, the daily bag limit is 10 mourning doves, spotted doves, and chestnut-bellied sandgrouse in the aggregate. On the island of Maui, the daily bag limit is 10 mourning doves. Shooting hours are from one-half hour before sunrise through one-half hour after sunset. See State regulations for additional restrictions on hunting dates and areas.

(b) Band-tailed Pigeons.

Area | Season dates | Limits: Bag | Limits: Possession
Arizona | Sept. 29-Oct. 12 | 2 | 6
California:
North Zone | Sept. 16-Sept. 24 | 2 | 6
South Zone | Dec. 16-Dec. 24 | 2 | 6
Colorado (1) | Sept. 1-Sept. 14 | 2 | 6
New Mexico (1):
North Zone | Sept. 1-Sept. 14 | 2 | 6
South Zone | Oct. 1-Oct. 14 | 2 | 6
Oregon | Sept. 15-Sept. 23 | 2 | 6
Utah (1) | Sept. 1-Sept. 14 | 2 | 6
Washington | Sept. 16-Sept. 24 | 2 | 6
(1) Each band-tailed pigeon hunter must have a band-tailed pigeon hunting permit issued by the State.

6. Section 20.104 is revised to read as follows:

§ 20.104 Seasons, limits, and shooting hours for rails, woodcock, and snipe.

Subject to the applicable provisions of the preceding sections of this part, areas open to hunting, respective open seasons (dates inclusive), shooting and hawking hours, and daily bag and possession limits for the species designated in this section are prescribed as follows:

Shooting and hawking hours are one-half hour before sunrise until sunset except as otherwise noted. Area descriptions were published in the August 11, 2023, Federal Register (88 FR 54830).

Note: Unless otherwise specified, the daily bag and possession limits for sora and Virginia rails are in the aggregate, and the daily bag and possession limits for clapper and king rails are in the aggregate.

CHECK STATE REGULATIONS FOR AREA DESCRIPTIONS AND ANY ADDITIONAL RESTRICTIONS.

Area | Sora and Virginia rails | Clapper and king rails | Woodcock | Snipe
Daily bag limit | 25 | 15 | 3 | 8
Possession limit | 75 | 45 | 9 | 24
ATLANTIC FLYWAY
Connecticut (1) | Sept. 1-Oct. 14 & Oct. 25-Nov. 30 | Sept. 1-Oct. 14 & Oct. 25-Nov. 30 | Oct. 25-Dec. 15 | Sept. 1-Dec. 30.
Delaware (2) | Sept. 2-Nov. 22 | Sept. 2-Nov. 22 | Nov. 20-Nov. 25 & Dec. 16-Jan. 30 | Sept. 29-Jan. 31.
Florida | Sept. 1-Nov. 9 | Sept. 1-Nov. 9 | Dec. 18-Jan. 31 | Nov. 1-Feb. 15.
Georgia | Sept. 26-Oct. 4 & Oct. 25-Dec. 24 | Sept. 26-Oct. 4 & Oct. 25-Dec. 24 | Dec. 9-Jan. 22 | Nov. 14-Feb. 28.
Maine (3) | Sept. 1-Nov. 21 | Closed | Sept. 30-Nov. 21 | Sept. 1-Jan. 3.
Maryland (1) | Sept. 1-Nov. 21 | Sept. 1-Nov. 21 | Oct. 21-Nov. 24 & Jan. 11-Jan. 27 | Sept. 29-Jan. 31.
Massachusetts (4) | Sept. 1-Nov. 7 | Closed | Oct. 2-Nov. 22 | Sept. 1-Dec. 16.
New Hampshire | Closed | Closed | Oct. 1-Nov. 14 | Sept. 15-Nov. 14.
New Jersey (2)(5):
North Zone | Sept. 1-Nov. 21 | Sept. 1-Nov. 21 | Oct. 14-Oct. 28 & Oct. 31-Nov. 25 | Sept. 9-Jan. 11.
South Zone | Sept. 1-Nov. 21 | Sept. 1-Nov. 21 | Nov. 11-Dec. 2 & Dec. 14-Jan. 2 | Sept. 9-Jan. 11.
New York (6) | Sept. 1-Nov. 9 | Closed | Oct. 1-Nov. 14 | Sept. 1-Nov. 9.
North Carolina | Sept. 2-Nov. 22 | Sept. 2-Nov. 22 | Dec. 11-Jan. 31 | Oct. 27-Feb. 28.
Pennsylvania (7) | Sept. 1-Nov. 21 | Closed | Oct. 14-Nov. 24 & Dec. 11-Dec. 20 | Oct. 14-Nov. 24 & Dec. 11-Dec. 20.
Rhode Island (8) | Sept. 1-Nov. 9 | Sept. 1-Nov. 9 | Oct. 21-Dec. 4 | Sept. 1-Nov. 9.
South Carolina | Sept. 1-Sept. 4 & Sept. 27-Dec. 1 | Sept. 1-Sept. 4 & Sept. 27-Dec. 1 | Dec. 18-Jan. 31 | Nov. 12-Feb. 26.
Vermont | Closed | Closed | Sept. 30-Nov. 13 | Sept. 30-Nov. 13.
Virginia (9) | Sept. 11-Nov. 5 & Nov. 13-Nov. 26 | Sept. 11-Nov. 5 & Nov. 13-Nov. 26 | Nov. 10-Nov. 27 & Dec. 26-Jan. 21 | Sept. 25-Nov. 26 & Dec. 19-Jan. 31.
West Virginia (10) | Sept. 1-Nov. 9 | Closed | Oct. 14-Nov. 18 & Nov. 27-Dec. 5 | Sept. 1-Dec. 16.
MISSISSIPPI FLYWAY
Alabama (11) | Sept. 9-Sept. 24 & Nov. 25-Jan. 17 | Sept. 9-Sept. 24 & Nov. 25-Jan. 17 | Dec. 15-Jan. 28 | Nov. 11-Feb. 25.
Arkansas | Sept. 9-Nov. 17 | Closed | Nov. 4-Dec. 18 | Nov. 1-Feb. 15.
Illinois (12) | Sept. 9-Nov. 17 | Closed | Oct. 21-Dec. 4 | Sept. 9-Dec. 24.
Indiana (13) | Sept. 1-Nov. 9 | Closed | Oct. 15-Nov. 28 | Sept. 1-Dec. 16.
Iowa (14) | Sept. 2-Nov. 10 | Closed | Oct. 7-Nov. 20 | Sept. 2-Nov. 30.
Kentucky | Sept. 1-Nov. 9 | Closed | Oct. 28-Nov. 10 & Nov. 13-Dec. 13 | Sept. 20-Oct. 29 & Nov. 23-Jan. 28.
Louisiana | Sept. 15-Sept. 30 & Nov. 11-Jan. 3 | Sept. 15-Sept. 30 & Nov. 11-Jan. 3 | Dec. 18-Jan. 31 | Nov. 2-Dec. 3 & Dec. 16-Feb. 28.
Michigan | Sept. 1-Nov. 9 | Closed | Sept. 15-Oct. 29 | Sept. 1-Nov. 9.
Minnesota | Sept. 1-Nov. 6 | Closed | Sept. 23-Nov. 6 | Sept. 1-Nov. 6.
Mississippi | Sept. 1-Oct. 1 & Nov. 23-Dec. 31 | Sept. 1-Oct. 1 & Nov. 23-Dec. 31 | Dec. 18-Jan. 31 | Nov. 14-Feb. 28.
Missouri | Sept. 1-Nov. 9 | Closed | Oct. 15-Nov. 28 | Sept. 1-Dec. 16.
Ohio (12) | Sept. 1-Nov. 9 | Closed | Oct. 13-Nov. 26 | Sept. 1-Nov. 22 & Dec. 9-Jan. 1.
Tennessee | Sept. 1-Nov. 9 | Closed | Nov. 11-Dec. 3 & Jan. 10-Jan. 31 | Nov. 14-Feb. 28.
Wisconsin | Sept. 1-Nov. 9 | Closed | Sept. 23-Nov. 6 | Sept. 1-Nov. 9.
CENTRAL FLYWAY
Colorado | Sept. 1-Nov. 9 | Closed | Closed | Sept. 1-Dec. 16.
Kansas | Sept. 1-Nov. 9 | Closed | Oct. 14-Nov. 27 | Sept. 1-Dec. 16.
Montana | Closed | Closed | Closed | Sept. 1-Dec. 16.
Nebraska (10) | Sept. 1-Nov. 9 | Closed | Oct. 7-Nov. 19 | Sept. 1-Dec. 16.
New Mexico (15) | Sept. 9-Nov. 17 | Closed | Closed | Oct. 7-Jan. 21.
North Dakota | Closed | Closed | Sept. 23-Nov. 6 | Sept. 9-Dec. 3.
Oklahoma | Sept. 1-Nov. 9 | Closed | Oct. 28-Dec. 11 | Sept. 30-Jan. 14.
South Dakota (16) | Closed | Closed | Closed | Sept. 1-Oct. 31.
Texas | Sept. 9-Sept. 24 & Nov. 4-Dec. 27 | Sept. 9-Sept. 24 & Nov. 4-Dec. 27 | Dec. 18-Jan. 31 | Nov. 4-Feb. 18.
Wyoming | Sept. 1-Nov. 9 | Closed | Closed | Sept. 1-Dec. 16.
PACIFIC FLYWAY
Arizona:
North Zone | Closed | Closed | Closed | Oct. 23-Jan. 31.
South Zone | Closed | Closed | Closed | Oct. 23-Jan. 31.
California | Closed | Closed | Closed | Oct. 21-Feb. 4.
Colorado | Sept. 1-Nov. 9 | Closed | Closed | Sept. 1-Dec. 16.
Idaho:
Zone 1 | Closed | Closed | Closed | Oct. 7-Jan. 19.
Zone 2 | Closed | Closed | Closed | Oct. 7-Jan. 19.
Zone 3 | Closed | Closed | Closed | Oct. 19-Jan. 31.
Zone 4 | Closed | Closed | Closed | Oct. 7-Jan. 19.
Montana | Closed | Closed | Closed | Sept. 1-Dec. 16.
Nevada:
Northeast Zone | Closed | Closed | Closed | Sept. 23-Nov. 28 & Dec. 9-Jan. 15.
Northwest Zone | Closed | Closed | Closed | Oct. 14-Jan. 7 & Jan. 10-Jan. 28.
South Zone (17) | Closed | Closed | Closed | Oct. 14-Oct. 22 & Oct. 25-Jan. 28.
New Mexico | Sept. 9-Nov. 17 | Closed | Closed | Oct. 17-Jan. 31.
Oregon:
Zone 1 | Closed | Closed | Closed | Nov. 4-Feb. 18.
Zone 2 | Closed | Closed | Closed | Oct. 14-Jan. 28.
Utah:
Northern Zone | Closed | Closed | Closed | Oct. 7-Jan. 20.
Southern Zone | Closed | Closed | Closed | Oct. 14-Jan. 27.
Washington:
East Zone | Closed | Closed | Closed | Oct. 14-Oct. 22 & Oct. 25-Jan. 28.
West Zone | Closed | Closed | Closed | Oct. 14-Oct. 22 & Oct. 25-Jan. 28.
Wyoming | Sept. 1-Nov. 9 | Closed | Closed | Sept. 1-Dec. 16.
(1) In Connecticut and Maryland, the daily bag limit for clapper and king rails is 10 and may include no more than 1 king rail. The possession limit is three times the daily bag limit.
(2) In Delaware and New Jersey, the limits for clapper and king rails are 10 daily and 30 in possession.
(3) In Maine, the daily bag and possession limit for sora and Virginia rails is 25.
(4) In Massachusetts, the limits for sora are 5 daily and 15 in possession; the limits for Virginia rails are 10 daily and 30 in possession.
(5) In New Jersey, the season for king rail is closed by State regulation.
(6) In New York, the limits for sora and Virginia rails are 8 daily and 24 in possession. Seasons for sora and Virginia rails and snipe are closed on Long Island.
(7) In Pennsylvania, the limits for sora and Virginia rails are 3 daily and 9 in possession.
(8) In Rhode Island, the limits for sora and Virginia rails are 3 daily and 9 in possession, the limits for clapper and king rails are 1 daily and 3 in possession, and the limits for snipe are 5 daily and 15 in possession.
(9) In Virginia, the limit for king rail is 1 daily and 3 in possession.
(10) In West Virginia and Nebraska, the limits for sora and Virginia rails are 10 daily and 30 in possession.
(11) In Alabama, the limits for sora and Virginia rails are 15 daily and 45 in possession.
(12) In Illinois and Ohio, shooting hours are from sunrise to sunset.
(13) In Indiana, the season on Virginia rails is closed.
(14) In Iowa, the limits for sora and Virginia rails are 12 daily and 36 in possession.
(15) In New Mexico, in the Central Flyway portion of the State, the limits for sora and Virginia rails are 10 daily and 20 in possession.
(16) In South Dakota, the snipe limits are 5 daily and 15 in possession.
(17) In Nevada, the snipe season in that portion of the South Zone including Moapa Valley to the confluence of the Muddy and Virgin rivers is only open October 28 through January 28.

7. Section 20.105 is revised to read as follows:

§ 20.105 Seasons, limits, and shooting hours for waterfowl, coots, and gallinules.

Subject to the applicable provisions of the preceding sections of this part, areas open to hunting, respective open seasons (dates inclusive), shooting and hawking hours, and daily bag and possession limits for the species designated in this section are prescribed as follows:

Shooting and hawking hours are one-half hour before sunrise until sunset, except as otherwise noted. Area descriptions were published in the August 11, 2023, Federal Register (88 FR 54830).

CHECK STATE REGULATIONS FOR AREA DESCRIPTIONS AND ANY ADDITIONAL RESTRICTIONS.

(a) Gallinules.

Area | Season dates | Limits: Bag | Limits: Possession
ATLANTIC FLYWAY
Delaware | Sept. 2-Nov. 22 | 15 | 45
Florida (1) | Sept. 1-Nov. 9 | 15 | 45
Georgia | Nov. 18-Nov. 26 & | 15 | 45
| Dec. 9-Jan. 28 | 15 | 45
New Jersey | Sept. 1-Nov. 21 | 1 | 3
New York:
Long Island | Closed |  |
Remainder of State | Sept. 1-Nov. 9 | 8 | 24
North Carolina | Sept. 2-Nov. 22 | 15 | 45
Pennsylvania | Sept. 1-Nov. 21 | 3 | 9
South Carolina | Sept. 1-Sept. 4 & | 15 | 45
| Sept. 27-Dec. 1 | 15 | 45
Virginia | Sept. 11-Nov. 5 & | 15 | 45
| Nov. 13-Nov. 26 | 15 | 45
West Virginia | Oct. 1-Oct. 14 & | 15 | 45
| Dec. 7-Jan. 31 | 15 | 45
MISSISSIPPI FLYWAY
Alabama | Sept. 9-Sept. 24 & | 15 | 45
| Nov. 25-Jan. 17 | 15 | 45
Arkansas | Sept. 1-Nov. 9 | 15 | 45
Kentucky | Sept. 1-Nov. 9 | 3 | 9
Louisiana | Sept. 15-Sept. 30 & | 15 | 45
| Nov. 11-Jan. 3 | 15 | 45
Michigan | Sept. 1-Nov. 9 | 1 | 3
Minnesota (2):
North Zone | Sept. 23-Nov. 21 | 15 | 45
Central Zone | Sept. 23-Oct. 1 & | 15 | 45
| Oct. 7-Nov. 26 | 15 | 45
South Zone | Sept. 23-Oct. 1 & | 15 | 45
| Oct. 7-Nov. 26 | 15 | 45
Mississippi | Sept. 1-Oct. 1 & | 15 | 45
| Nov. 23-Dec. 31 | 15 | 45
Ohio (3) | Sept. 1-Nov. 9 | 15 | 45
Tennessee | Sept. 1-Nov. 9 | 15 | 45
Wisconsin | Sept. 1-Nov. 9 | 8 | 24
CENTRAL FLYWAY
New Mexico:
Zone 1 | Sept. 9-Nov. 17 | 1 | 3
Zone 2 | Sept. 9-Nov. 17 | 1 | 3
Oklahoma | Sept. 1-Nov. 9 | 15 | 45
Texas | Sept. 9-Sept. 24 & | 15 | 45
| Nov. 4-Dec. 27 | 15 | 45
PACIFIC FLYWAY
All States | Seasons are in the aggregate with coots and listed in paragraph (d).
(1) The season applies to common gallinules only.
(2) In Minnesota, the daily bag limit is 15 and the possession limit is 45 coots and gallinules in the aggregate.
(3) In Ohio, shooting hours are from sunrise to sunset.

(b) Early (September) Duck Seasons.

Note: Unless otherwise specified, the seasons listed in the following table are for teal only.

Area | Season dates | Limits: Bag | Limits: Possession
ATLANTIC FLYWAY
Delaware (1) | Sept. 13-Sept. 30 | 6 | 18
Florida (2) | Sept. 16-Sept. 24 | 6 | 18
Georgia | Sept. 9-Sept. 24 | 6 | 18
Maryland (1) | Sept. 16-Sept. 30 | 6 | 18
North Carolina (1) | Sept. 13-Sept. 30 | 6 | 18
South Carolina (3) | Sept. 15-Sept. 30 | 6 | 18
Virginia (1):
Area East of Interstate 95 | Sept. 17-Sept. 30 | 6 | 18
Area West of Interstate 95 | Sept. 21-Sept. 30 | 6 | 18
MISSISSIPPI FLYWAY
Alabama | Sept. 9-Sept. 24 | 6 | 18
Arkansas (3) | Sept. 15-Sept. 30 | 6 | 18
Illinois (3) | Sept. 9-Sept. 24 | 6 | 18
Indiana (3) | Sept. 9-Sept. 24 | 6 | 18
Iowa (3) | Sept. 1-Sept. 16 | 6 | 18
Kentucky (2) | Sept. 16-Sept. 24 | 6 | 18
Louisiana | Sept. 15-Sept. 30 | 6 | 18
Michigan | Sept. 1-Sept. 15 | 6 | 18
Minnesota (1)(3) | Sept. 2-Sept. 6 | 6 | 18
Mississippi | Sept. 9-Sept. 24 | 6 | 18
Missouri (3) | Sept. 9-Sept. 24 | 6 | 18
Ohio (3) | Sept. 2-Sept. 17 | 6 | 18
Tennessee (2) | Sept. 9-Sept. 17 | 6 | 18
Wisconsin | Sept. 1-Sept. 9 | 6 | 18
CENTRAL FLYWAY
Colorado (1) | Sept. 9-Sept. 17 | 6 | 18
Kansas (1):
Low Plains | Sept. 9-Sept. 24 | 6 | 18
High Plains | Sept. 16-Sept. 24 | 6 | 18
Nebraska (1):
Low Plains | Sept. 2-Sept. 17 | 6 | 18
High Plains | Sept. 2-Sept. 10 | 6 | 18
New Mexico | Sept. 9-Sept. 17 | 6 | 18
Oklahoma | Sept. 9-Sept. 24 | 6 | 18
Texas:
High Plains | Sept. 9-Sept. 24 | 6 | 18
Rest of State | Sept. 9-Sept. 24 | 6 | 18
(1) Area restrictions. See State regulations.
(2) In Florida, Kentucky, and Tennessee, the daily bag limit for the first 5 days of the season is 6 wood ducks and teal in the aggregate, of which no more than 2 may be wood ducks. During the last 4 days of the season, the daily bag limit is 6 teal only. The possession limit is three times the daily bag limit.
(3) Shooting hours are from sunrise to sunset.
(c) Special Early Canada and Cackling Geese Seasons.

Note: Unless otherwise specified, the daily bag and possession limits for Canada and cackling geese are in the aggregate.

Area | Season dates | Limits: Bag | Limits: Possession
ATLANTIC FLYWAY
Connecticut (1):
North Zone | Sept. 1-Sept. 30 | 15 | 45
South Zone | Sept. 15-Sept. 30 | 15 | 45
Delaware | Sept. 1-Sept. 25 | 15 | 45
Florida | Sept. 2-Sept. 24 | 5 | 15
Georgia | Sept. 2-Sept. 24 | 5 | 15
Maine:
Northern Zone | Sept. 1-Sept. 25 | 8 | 24
Southern Zone | Sept. 1-Sept. 25 | 10 | 30
Coastal Zone | Sept. 1-Sept. 25 | 10 | 30
Maryland (1)(2):
Eastern Unit | Sept. 1-Sept. 15 | 8 | 24
Western Unit | Sept. 1-Sept. 25 | 8 | 24
Massachusetts:
Central Zone | Sept. 1-Sept. 22 | 15 | 45
Coastal Zone | Sept. 1-Sept. 22 | 15 | 45
Western Zone | Sept. 1-Sept. 22 | 15 | 45
New Hampshire | Sept. 1-Sept. 25 | 5 | 15
New Jersey (1)(2)(3) | Sept. 1-Sept. 30 | 15 | 45
New York (4):
Lake Champlain Zone | Sept. 1-Sept. 25 | 8 | 24
Northeastern Zone | Sept. 1-Sept. 25 | 15 | 45
East Central Zone | Sept. 1-Sept. 25 | 15 | 45
Hudson Valley Zone | Sept. 1-Sept. 25 | 15 | 45
West Central Zone | Sept. 1-Sept. 25 | 15 | 45
South Zone | Sept. 1-Sept. 25 | 15 | 45
Western Long Island Zone | Closed |  |
Central Long Island Zone | Sept. 5-Sept. 30 | 15 | 45
Eastern Long Island Zone | Sept. 5-Sept. 30 | 15 | 45
North Carolina (5)(6) | Sept. 1-Sept. 30 | 15 | 45
Pennsylvania (7)(8)(9): | Sept. 1-Sept. 25 | 8 | 24
Rhode Island (1) | Sept. 1-Sept. 30 | 15 | 45
South Carolina | Sept. 1-Sept. 30 | 15 | 45
Vermont:
Lake Champlain Zone | Sept. 1-Sept. 25 | 8 | 24
Interior Vermont Zone | Sept. 1-Sept. 25 | 8 | 24
Connecticut River Zone (10) | Sept. 1-Sept. 25 | 5 | 15
Virginia (11) | Sept. 1-Sept. 25 | 10 | 30
West Virginia | Sept. 1-Sept. 10 | 5 | 15
CENTRAL FLYWAY
North Dakota:
Missouri River Zone | Sept. 1-Sept. 7 | 15 | 45
Western ND Canada, and Cackling Goose Zone | Sept. 1-Sept. 15 | 15 | 45
Remainder of State | Sept. 1-Sept. 22 | 15 | 45
Oklahoma | Sept. 9-Sept. 18 | 8 | 24
South Dakota (12) | Sept. 1-Sept. 30 | 15 | 45
Texas:
East Goose Zone (12) | Sept. 9-Sept. 24 | 5 | 15
PACIFIC FLYWAY
Colorado | Sept. 1-Sept. 9 | 5 | 15
Idaho:
Zone 4 | Sept. 1-Sept. 15 | 5 | 15
Oregon:
Northwest Permit Zone | Sept. 9-Sept. 17 | 5 | 15
Southwest Zone | Sept. 9-Sept. 13 | 5 | 15
Eastern Zone | Sept. 9-Sept. 13 | 5 | 15
Mid-Columbia Zone | Sept. 9-Sept. 13 | 5 | 15
Washington:
Area 1 | Sept. 2-Sept. 7 | 5 | 15
Area 2 Inland | Sept. 2-Sept. 10 | 5 | 15
Area 2 Coast (13) | Sept. 2-Sept. 10 | 5 | 15
Area 3 | Sept. 2-Sept. 7 | 5 | 15
Area 4 | Sept. 2-Sept. 3 | 5 | 10
Area 5 | Sept. 2-Sept. 3 | 5 | 10
Wyoming:
Teton County Zone | Sept. 1-Sept. 8 | 5 | 15
Balance of State Zone | Sept. 1-Sept. 8 | 5 | 15
(1) Shooting hours are one-half hour before sunrise to one-half hour after sunset.
(2) The use of shotguns capable of holding more than 3 shotshells is allowed.
(3) The use of electronic calls is allowed.
(4) In New York, shooting hours are one-half hour before sunrise to one-half hour after sunset, the use of shotguns capable of holding more than 3 shotshells is allowed, and the use of electronic calls is allowed, except during Youth Waterfowl Hunting Days in Lake Champlain, Northeastern, and Southeastern Goose Hunting Areas. During the designated Youth Waterfowl Hunting Days in these areas, shooting hours are one-half hour before sunrise to sunset, shotguns must be capable of holding no more than 3 shotshells, and electronic calls are not allowed. See State regulations for further details.
(5) In North Carolina, the use of unplugged guns and electronic calls is allowed in that area west of U.S. Highway 17 only.
(6) In North Carolina, shooting hours are one-half hour before sunrise to one-half hour after sunset in that area west of U.S. Highway 17 only.
(7) In Pennsylvania, shooting hours are one-half hour before sunrise to one-half hour after sunset from September 1 to September 22, and September 25. On September 23, shooting hours are one-half hour before sunrise to sunset.
(8) In Pennsylvania, the area south of State Route (SR) 198 from the Ohio State line to intersection of I-79, west of I-79 to SR 358, north of SR 358 to the Ohio State line: The season dates are Sept. 1-Sept. 16. The daily limit is 1 Canada goose with a possession limit of 3 geese. The season is closed on State Game Lands 214. Note: this restriction does not apply to youth participation on youth waterfowl hunting days when regular season regulations apply.
(9) In Pennsylvania, in the area of Lancaster and Lebanon Counties north of the Pennsylvania Turnpike I-76, east of SR 501 to SR 419, south of SR 419 to the Lebanon-Berks County line, west of the Lebanon-Berks County line and the Lancaster-Berks County line to SR 1053, west of SR 1053 to the Pennsylvania Turnpike I-76, the daily bag limit is 1 goose with a possession limit of 3 geese. On State Game Lands No. 46 (Middle Creek Wildlife Management Area), the season is closed. However, during youth waterfowl hunting days, regular season regulations apply.
(10) In Vermont, the season in the Connecticut River Zone is the same as the New Hampshire Inland Zone season, set by New Hampshire.
(11) In Virginia, shooting hours are one-half hour before sunrise to one-half hour after sunset from September 1 to September 16 in the area east of I-95. Shooting hours are one-half hour before sunrise to one-half hour after sunset from September 1 to September 20 in the area west of I-95.
(12) See State regulations for additional information and restrictions.
(13) In Washington, in Pacific County, the daily bag and possession limits are 15 and 45 Canada and cackling geese in the aggregate, respectively.

(d) Waterfowl, Coots, and Pacific-Flyway Seasons for Gallinules.

Definitions

Atlantic Flyway: Includes Connecticut, Delaware, Florida, Georgia, Maine, Maryland, Massachusetts, New Hampshire, New Jersey, New York, North Carolina, Pennsylvania, Rhode Island, South Carolina, Vermont, Virginia, and West Virginia.

Mississippi Flyway: Includes Alabama, Arkansas, Illinois, Indiana, Iowa, Kentucky, Louisiana, Michigan, Minnesota, Mississippi, Missouri, Ohio, Tennessee, and Wisconsin.

Central Flyway: Includes Colorado (east of the Continental Divide), Kansas, Montana (Blaine, Carbon, Fergus, Judith Basin, Stillwater, Sweetgrass, Wheatland, and all counties east thereof), Nebraska, New Mexico (east of the Continental Divide except that the Jicarilla Apache Indian Reservation is in the Pacific Flyway), North Dakota, Oklahoma, South Dakota, Texas, and Wyoming (east of the Continental Divide).

Pacific Flyway: Includes the States of Arizona, California, Colorado (west of the Continental Divide), Idaho, Montana (including and to the west of Hill, Chouteau, Cascade, Meagher, and Park Counties), Nevada, New Mexico (the Jicarilla Apache Indian Reservation and west of the Continental Divide), Oregon, Utah, Washington, and Wyoming (west of the Continental Divide including the Great Divide Basin).

Light Geese: Includes lesser snow (including blue) geese, greater snow geese, and Ross's geese.

Dark Geese: Includes Canada geese, cackling geese, white-fronted geese, brant (except in California, Oregon, Washington, and the Atlantic Flyway), and all other goose species except light geese.

Note: Unless otherwise specified, the daily bag and possession limits for Canada and cackling geese are in the aggregate.

Atlantic Flyway

Flyway-Wide Restrictions

Duck Limits: The daily bag limit of 6 ducks may include no more than 4 mallards (2 female mallards), 1 scaup (except as footnoted below), 2 black ducks, 1 pintail, 1 mottled duck, 1 fulvous whistling-duck, 3 wood ducks, 2 redheads, 2 canvasbacks, 4 sea ducks (including no more than 3 scoters, 3 long-tailed ducks, and 3 eiders [and no more than 1 may be a hen eider]). The possession limit is three times the daily bag limit.

Note: Notwithstanding the provisions of this part, the shooting of crippled waterfowl from a motorboat under power will be permitted in Connecticut, Delaware, Georgia, Maine, Maryland, Massachusetts, New Hampshire, New Jersey, New York, North Carolina, Rhode Island, South Carolina, and Virginia in those areas described, delineated, and designated in their respective hunting regulations as special sea duck hunting areas.

Harlequin Ducks: All areas of the Flyway are closed to harlequin duck hunting.

Merganser Limits: The daily bag limit is 5 mergansers. In States that include mergansers in the duck bag limit, the daily limit is the same as the duck bag limit. The possession limit is three times the daily bag limit.

Area | Season dates | Limits: Bag | Limits: Possession
Connecticut:
Ducks and Mergansers (1):
North Zone | Oct. 7-Oct. 14 & | 6 | 18
| Nov. 10-Jan. 10 | 6 | 18
South Zone | Oct. 12-Oct. 14 & | 6 | 18
| Nov. 16-Jan. 20 | 6 | 18
Coots | Same as for Ducks | 15 | 45
Canada, Cackling, and White-fronted Geese (2):
Atlantic Flyway Resident Population (AFRP) Unit | Oct. 10-Oct. 14 & | 5 | 15
| Nov. 21-Feb. 15 | 5 | 15
North Atlantic Population (NAP) High Unit | Oct. 10-Oct. 14 & | 2 | 6
| Nov. 10-Jan. 12 | 2 | 6
Late Season | Jan. 15-Feb. 15 | 5 | 15
Atlantic Population (AP) Unit | Oct. 10-Oct. 14 & | 3 | 9
| Nov. 10-Dec. 15 | 3 | 9
Special Season | Dec. 27-Feb. 15 | 5 | 15
Light Geese | Oct. 2-Jan. 13 & | 25 |
| Feb. 21-Mar. 9 | 25 |
Brant:
North Zone | Dec. 7-Jan. 10 | 1 | 3
South Zone | Dec. 18-Jan. 20 | 1 | 3
Delaware:
Ducks | Oct. 27-Nov. 4 & | 6 | 18
| Nov. 20-Nov. 25 & | 6 | 18
| Dec. 9-Jan. 31 | 6 | 18
Mergansers | Same as for Ducks | 5 | 15
Coots | Same as for Ducks | 15 | 45
Canada, Cackling, and White-fronted Geese (2) | Nov. 20-Nov. 25 & | 2 | 6
| Dec. 16-Jan. 30 | 2 | 6
Light Geese (3) | Oct. 2-Jan. 31 & | 25 |
| Feb. 3 only | 25 |
Brant | Dec. 23-Jan. 9 & | 1 | 3
| Jan. 11-Jan. 27 | 1 | 3
Florida:
Ducks (4) | Nov. 18-Nov. 26 & | 6 | 18
| Dec. 9-Jan. 28 | 6 | 18
Mergansers | Same as for Ducks | 5 | 15
Coots | Same as for Ducks | 15 | 45
Canada and Cackling Geese | Nov. 18-Nov. 26 | 5 | 15
| Dec. 1-Jan. 30 | 5 | 15
Light Geese | Same as for Ducks | 15 |
Georgia:
Ducks | Nov. 18-Nov. 26 & | 6 | 18
| Dec. 9-Jan. 28 | 6 | 18
Mergansers | Same as for Ducks | 5 | 15
Coots | Same as for Ducks | 15 | 45
Canada, Cackling, and White-fronted Geese (2) | Oct. 7-Oct. 22 & | 5 | 15
| Nov. 18-Nov. 26 & | 5 | 15
| Dec. 9-Jan. 28 | 5 | 15
Light Geese | Same as for Canada, Cackling, and White-fronted Geese | 5 | 15
Brant | Closed |  |
Maine:
Ducks (5):
North Zone | Sept. 25-Dec. 2 | 6 | 18
South Zone | Sept. 30-Oct. 14 & | 6 | 18
| Nov. 1-Dec. 25 | 6 | 18
Coastal Zone | Sept. 30-Oct. 7 & | 6 | 18
| Nov. 9-Jan. 9 | 6 | 18
Mergansers | Same as for Ducks | 5 | 15
Coots | Same as for Ducks | 5 | 15
Canada, Cackling, and White-fronted Geese (2):
North Zone | Oct. 2-Dec. 9 | 2 | 6
South Zone | Oct. 2-Oct. 14 & | 2 | 6
| Nov. 1-Dec. 25 | 2 | 6
Coastal Zone | Oct. 2-Oct. 7 & | 3 | 9
| Oct. 27-Jan. 9 | 3 | 9
Light Geese | Oct. 2-Jan. 31 | 25 |
Brant:
North Zone | Sept. 25-Oct. 28 | 1 | 3
South Zone | Oct. 2-Oct. 14 & | 1 | 3
| Oct. 31-Nov. 20 | 1 | 3
Coastal Zone | Oct. 2-Oct. 7 & | 1 | 3
| Dec. 13-Jan. 9 | 1 | 3
Maryland:
Ducks and Mergansers (6)(7)
Eastern Zone | Oct. 14-Oct. 21 & | 6 | 18
| Nov. 11-Nov. 24 & | 6 | 18
| Dec. 15-Jan. 31 | 6 | 18
Western Zone | Sept. 30-Oct. 14 & | 6 | 18
| Nov. 18-Nov. 24 & | 6 | 18
| Dec. 15-Jan. 31 | 6 | 18
Coots | Same as for Ducks | 15 | 45
Canada, Cackling, and White-fronted Geese (2):
Resident Population (RP) Zone | Nov. 18-Nov. 24 & | 5 | 15
| Dec. 11-Mar. 5 | 5 | 15
AP Zone | Nov. 21-Nov. 24 & | 2 | 6
| Dec. 15-Jan. 31 | 2 | 6
Light Geese | Oct. 1-Nov. 24 & | 25 | 75
| Dec. 11-Jan. 31 & | 25 | 75
| Feb. 3 only | 25 | 75
Brant | Dec. 28-Jan. 31 | 1 | 3
Massachusetts:
Ducks (8)(9):
Western Zone | Oct. 9-Nov. 25 & | 6 | 18
| Dec. 11-Dec. 30 | 6 | 18
Central Zone | Oct. 14-Nov. 25 & | 6 | 18
| Dec. 12-Jan. 6 | 6 | 18
Coastal Zone | Oct. 14-Oct. 21 & | 6 | 18
| Nov. 28-Jan. 27 | 6 | 18
Mergansers | Same as for Ducks | 5 | 15
Coots | Same as for Ducks | 15 | 45
Canada and Cackling Geese:
NAP Zone:
Central Zone | Oct. 14-Nov. 25 & | 2 | 6
| Dec. 12-Jan. 6 | 2 | 6
Late Season | Jan. 15-Feb. 12 | 5 | 15
Coastal Zone | Oct. 14-Oct. 21 & | 2 | 6
| Nov. 29-Jan. 27 | 2 | 6
Late Season (10) | Jan. 29-Feb. 15 | 5 | 15
Western Zone | Oct. 10-Nov. 25 & | 3 | 9
| Dec. 11-Dec. 14 | 3 | 9
Late Season | Jan. 1-Feb. 15 | 5 | 15
Light Geese:
Western Zone | Oct. 9-Nov. 25 & | 15 | 45
| Dec. 11-Dec. 30 | 15 | 45
Central Zone | Oct. 14-Nov. 25 & | 15 | 45
| Dec. 12-Jan. 6 & | 15 | 45
| Jan. 15-Feb. 12 | 15 | 45
Coastal Zone (10) | Oct. 14-Oct. 21 & | 15 | 45
| Nov. 28-Jan. 27 & | 15 | 45
| Jan. 29-Feb. 15 | 15 | 45
Brant:
Western and Central Zones | Closed |  |
Coastal Zone | Dec. 12-Jan. 15 | 1 | 3
New Hampshire:
Ducks:
Northern Zone | Oct. 2-Nov. 30 | 6 | 18
Inland Zone | Oct. 5-Nov. 3 & | 6 | 18
| Nov. 22-Dec. 21 | 6 | 18
Coastal Zone | Oct. 4-Oct. 10 & | 6 | 18
| Nov. 22-Jan. 13 | 6 | 18
Mergansers | Same as for Ducks | 5 | 15
Coots | Same as for Ducks | 15 | 45
Canada and Cackling Geese:
Northern Zone | Oct. 2-Nov. 30 | 2 | 6
Inland Zone | Oct. 5-Nov. 3 & | 2 | 6
| Nov. 22-Dec. 21 | 2 | 6
Coastal Zone | Oct. 4-Oct. 10 & | 2 | 6
| Nov. 22-Jan. 13 | 2 | 6
Light Geese:
Northern Zone | Oct. 2-Nov. 30 | 25 |
Inland Zone | Oct. 5-Dec. 21 | 25 |
Coastal Zone | Oct. 4-Jan. 13 | 25 |
Brant:
Northern Zone | Oct. 2-Oct. 31 | 1 | 3
Inland Zone | Oct. 5-Nov. 3 | 1 | 3
Coastal Zone | Oct. 4-Oct. 10 & | 1 | 3
| Nov. 22-Dec. 14 | 1 | 3
New Jersey:
Ducks (11):
North Zone | Oct. 14-Oct. 21 & | 6 | 18
| Nov. 11-Jan. 11 | 6 | 18
South Zone | Oct. 21-Oct. 28 & | 6 | 18
| Nov. 18-Jan. 18 | 6 | 18
Coastal Zone | Nov. 9-Nov. 11 & | 6 | 18
| Nov. 23-Jan. 27 | 6 | 18
Mergansers | Same as for Ducks | 5 | 15
Coots | Same as for Ducks | 15 | 45
Canada, Cackling, and White-fronted Geese (2):
North Zone | Nov. 18-Nov. 25 & | 3 | 9
| Dec. 16-Jan. 29 | 3 | 9
Special Season | Jan. 30-Feb. 15 | 5 | 15
South Zone | Nov. 18-Nov. 25 & | 3 | 9
| Dec. 16-Jan. 29 | 3 | 9
| Jan. 30-Feb. 15 | 5 | 15
Coastal Zone | Nov. 9-Nov. 11 & | 2 | 6
| Nov. 23-Jan. 27 | 2 | 6
Light Geese:
North, South, and Coastal Zones | Oct. 17-Feb. 15 | 25 |
Brant:
North Zone | Nov. 11-Nov. 25 & | 1 | 3
| Dec. 23-Jan. 11 | 1 | 3
South Zone | Oct. 21-Oct. 28 & | 1 | 3
| Nov. 18-Dec. 14 | 1 | 3
Coastal Zone | Nov. 23-Dec. 2 & | 1 | 3
| Dec. 14-Jan. 6 | 1 | 3
New York:
Ducks and Mergansers (12):
Long Island Zone | Nov. 18-Nov. 26 & | 6 | 18
| Dec. 9-Jan. 28 | 6 | 18
Lake Champlain Zone | Oct. 7-Oct. 11 & | 6 | 18
| Nov. 4-Dec. 28 | 6 | 18
Northeastern Zone | Oct. 7-Oct. 29 & | 6 | 18
| Nov. 4-Dec. 10 | 6 | 18
Southeastern Zone | Oct. 21-Dec. 3 & | 6 | 18
| Dec. 9-Dec. 24 | 6 | 18
Western Zone | Oct. 21-Nov. 12 & | 6 | 18
| Nov. 25-Dec. 31 | 6 | 18
Coots | Same as for Ducks | 15 | 45
Canada, Cackling, and White-fronted Geese (2):
Western Long Island (RP) | Oct. 7-Oct. 22 & | 8 | 24
| Nov. 18-Nov. 26 & | 8 | 24
| Dec. 6-Feb. 21 | 8 | 24
Central Long Island (NAP-L) | Nov. 18-Nov. 26 & | 3 | 9
| Dec. 9-Feb. 7 | 3 | 9
Eastern Long Island (NAP-H) | Nov. 18-Nov. 26 & | 2 | 6
| Dec. 9-Jan. 28 | 2 | 6
Lake Champlain (AP) Zone | Oct. 14-Nov. 27 | 3 | 9
Late Season | Dec. 1-Jan. 6 | 5 | 15
Northeast (AP) Zone | Oct. 28-Dec. 11 | 3 | 9
East Central (AP) Zone | Oct. 28-Nov. 17 & | 3 | 9
| Nov. 25-Dec. 18 | 3 | 9
Hudson Valley (AP) Zone | Oct. 28-Nov. 11 & | 3 | 9
| Dec. 9-Jan. 7 | 3 | 9
West Central (AP) Zone | Oct. 28-Nov. 26 & | 3 | 9
| Dec. 26-Jan. 9 | 3 | 9
South (AFRP) Zone | Oct. 28-Nov. 17 & | 5 | 15
| Nov. 25-Jan. 21 | 5 | 15
Light Geese (13):
Long Island Zone | Nov. 25-Mar. 10 | 25 |
Lake Champlain Zone | Oct. 1-Dec. 31 | 25 |
Northeastern Zone | Oct. 1-Jan. 15 | 25 |
Southeastern Zone | Oct. 1-Jan. 15 | 25 |
Western Zone | Oct. 1-Jan. 15 | 25 |
Brant:
Long Island Zone | Dec. 30-Jan. 28 | 1 | 3
Lake Champlain Zone | Oct. 14-Nov. 12 | 1 | 3
Northeastern Zone | Oct. 14-Nov. 12 | 1 | 3
Southeastern Zone | Oct. 14-Nov. 12 | 1 | 3
Western Zone | Oct. 14-Nov. 12 | 1 | 3
North Carolina:
Ducks (14)(15)
Coastal Zone | Oct. 27-Oct. 28 & | 6 | 18
| Nov. 4-Nov. 25 & | 6 | 18
| Dec. 18-Jan. 31 | 6 | 18
Inland Zone | Oct. 19-Oct. 21 & | 6 | 18
| Nov. 4-Nov. 25 & | 6 | 18
| Dec. 19-Jan. 31 | 6 | 18
Mergansers (16) | Same as for Ducks | 5 | 15
Coots | Same as for Ducks | 15 | 45
Canada, Cackling, and White-fronted Geese (2):
RP Zone | Oct. 19-Oct. 28 & | 5 | 15
| Nov. 4-Nov. 25 & | 5 | 15
| Dec. 18-Feb. 10 | 5 | 15
Northeast Zone | Dec. 28-Jan. 31 | 2 | 6
Light Geese | Oct. 10-Feb. 10 | 25 |
Brant | Dec. 28-Jan. 31 | 1 | 3
Pennsylvania:
Ducks (17):
North Zone | Oct. 7-Oct. 21 & | 6 | 18
| Nov. 14-Jan. 6 | 6 | 18
South Zone | Oct. 7-Oct. 14 & | 6 | 18
| Nov. 21-Jan. 20 | 6 | 18
Northwest Zone | Oct. 7-Dec. 2 & | 6 | 18
| Dec. 26-Jan. 6 | 6 | 18
Lake Erie Zone | Nov. 6-Jan. 13 | 6 | 18
Mergansers | Same as for Ducks | 5 | 15
Coots | Same as for Ducks | 15 | 45
Canada, Cackling, and White-fronted Geese (2)(18):
AP Zone | Nov. 18-Nov. 24 & | 3 | 9
| Dec. 7-Jan. 20 | 3 | 9
RP Zone | Oct. 28-Nov. 24 & | 5 | 15
| Dec. 11-Jan. 20 & | 5 | 15
| Feb. 2-Feb. 24 | 5 | 15
Light Geese:
AP Zone | Oct. 2-Jan. 27 | 25 |
RP Zone | Oct. 24-Feb. 24 | 25 |
Brant | Oct. 14-Nov. 17 | 1 | 3
Rhode Island:
Ducks (19) | Oct. 13-Oct. 16 & | 6 | 18
| Nov. 22-Nov. 26 & | 6 | 18
| Dec. 2-Jan. 21 | 6 | 18
Mergansers | Same as for Ducks | 5 | 15
Coots | Same as for Ducks | 15 | 45
Canada and Cackling Geese | Nov. 18-Nov. 26 & | 2 | 6
| Dec. 2-Jan. 21 | 2 | 6
Special Season | Jan. 27-Feb. 10 | 5 | 15
Light Geese | Oct. 7-Jan. 21 | 25 |
Brant | Dec. 23-Jan. 21 | 1 | 3
South Carolina:
Ducks (20)(21)(22) | Nov. 11 & | 6 | 18
| Nov. 18-Nov. 25 & | 6 | 18
| Dec. 12-Jan. 31 | 6 | 18
Mergansers (20) | Same as for Ducks | 5 | 15
Coots | Same as for Ducks | 15 | 45
Canada, Cackling, and White-fronted Geese (2)(23) | Nov. 18-Nov. 25 & | 5 | 15
| Dec. 12-Jan. 31 | 5 | 15
| Feb. 15-Mar. 1 | 5 | 15
Light Geese | Same as for Canada, Cackling, and White-fronted Geese | 25 |
Brant | Jan. 2-Jan. 31 | 1 | 3
Vermont:
Ducks (24):
Lake Champlain Zone | Oct. 7-Oct. 11 & | 6 | 18
| Nov. 4-Dec. 28 | 6 | 18
Interior Zone | Oct. 7-Dec. 5 | 6 | 18
Connecticut River Zone | Oct. 5-Nov. 3 & | 6 | 18
| Nov. 22-Dec. 21 | 6 | 18
Mergansers | Same as for Ducks | 5 | 15
Coots | Same as for Ducks | 15 | 45
Canada, Cackling, and White-fronted Geese (2):
Lake Champlain Zone | Oct. 14-Nov. 27 | 3 | 9
Late Season | Dec. 1-Jan. 6 | 5 | 15
Interior Zone | Oct. 14-Nov. 27 | 3 | 9
Late Season | Dec. 1-Jan. 6 | 5 | 15
Connecticut River Zone | Oct. 5-Nov. 3 & | 2 | 6
| Nov. 22-Dec. 21 | 2 | 6
Late season | Dec. 22-Jan. 6 | 5 | 15
Light Geese:
Lake Champlain Zone | Oct. 1-Dec. 31 & | 25 |
| Feb. 27-Mar. 10 | 25 |
Interior Zone | Oct. 1-Dec. 31 & | 25 |
| Feb. 27-Mar. 10 | 25 |
Connecticut River Zone | Oct. 5-Dec. 21 | 25 |
Brant:
Lake Champlain Zone | Oct. 14-Nov. 12 | 1 | 3
Interior Zone | Oct. 14- Nov. 12 | 1 | 3
Connecticut River Zone | Oct. 5-Nov. 3 | 1 | 3
Virginia:
Ducks (25)(26) | Oct. 6-Oct. 9 & | 6 | 18
| Nov. 15-Nov. 26 & | 6 | 18
| Dec. 19-Jan. 31 | 6 | 18
Mergansers | Same as for Ducks | 5 | 15
Coots | Same as for Ducks | 15 | 45
Canada, Cackling, and White-fronted Geese (2):
AP Zone | Nov. 22-Nov. 26 & | 2 | 6
| Dec. 23-Jan. 31 | 2 | 6
RP Zone | Nov. 15-Nov. 26 & | 5 | 15
| Dec. 19-Feb. 24 | 5 | 15
Light Geese | Oct. 17-Jan. 31 | 25 |
Brant | Dec. 23-Dec. 31 & | 1 | 3
| Jan. 11-Jan. 31 | 1 | 3
West Virginia:
Ducks (27)(28) | Oct. 1-Oct. 14 & | 6 | 18
| Nov. 6-Nov. 12 & | 6 | 18
| Dec. 24-Jan. 31 | 6 | 18
Mergansers | Same as for Ducks | 5 | 15
Coots | Same as for Ducks | 15 | 45
Canada, Cackling, and White-fronted Geese (2) | Oct. 1-Oct. 21 & | 5 | 15
| Nov. 6-Nov. 12 & | 5 | 15
| Dec. 11-Jan. 31 | 5 | 15
Light Geese | Same as for Canada, Cackling, and White-fronted Geese | 5 | 15
Brant | Jan. 2-Jan. 31 | 1 | 3
(1) In Connecticut, the daily bag limit for scaup is 2 from December 19 through January 10 in the North Zone and from December 29 through January 20 in the South Zone.
(2) The daily bag and possession limits for Canada geese, cackling geese, and white-fronted geese are in the aggregate.
(3) In Delaware, the Bombay Hook National Wildlife Refuge snow goose season is open Mondays, Wednesdays, and Fridays only.
(4) In Florida, the daily bag limit for scaup is 2 from January 9 through January 28.
(5) In Maine, the daily bag limit may include no more than 4 of any species, with no more than 12 of any one species in possession. The season for Barrow's goldeneye is closed. Scaup bag limit is 1 for the entire season.
(6) In Maryland, the black duck season is closed in the first (October) segment. Two black ducks may be harvested as part of the daily duck bag limit during the 2nd and 3rd season segments of the regular duck season in both the Eastern and Western Duck Zones. Additionally, the daily bag limit of 6 ducks may include no more than 4 sea ducks, of which no more than 3 may be scoters, eiders, or long-tailed ducks (no more than 1 hen eider). Where the Sea Duck Zone (defined by State regulation 08.03.07.04) is not overlain by the Offshore Waterfowl Hunting Zone (defined by State regulation 08.03.07.07), only sea ducks (scoters, long-tailed ducks, and eiders) may be taken during the regular duck season.
(7) In Maryland, during the regular duck season the daily bag limit for scaup is 1 during all portions of the regular duck season that occur prior to January 9. The daily bag limit for scaup is 2 from January 9 through January 31 in both the Eastern and Western duck zones.
(8) In Massachusetts, the daily bag limit may include no more than 4 of any single species in addition to the flyway-wide bag restrictions.
(9) In Massachusetts, the daily bag limit for scaup is 2 from January 9 through January 31 in the Coastal Zone.
(10) In Massachusetts, the February 1 through 15 portion of the season in the Coastal Zone is restricted to that portion of the Coastal Zone north of the Cape Cod Canal.
(11) In New Jersey, the daily bag limit for scaup is 2 from December 20 through January 11 in the North Zone, from December 27 through January 18 in the South Zone, and from January 5 through January 27 in the Coastal Zone. Also, 1 black-bellied whistling-duck or fulvous whistling-duck in the aggregate.
(12) In New York, the daily bag limit for scaup is 2 from November 21 through December 10 in the Northeast Zone, from December 12 through December 31 in the Western Zone, from November 30 through December 3 and December 9 through December 24 in the Southeast Zone, from January 9 through January 28 in the Long Island Zone, and from December 9 through December 28 in the Lake Champlain Zone.
(13) In New York, the use of electronic calls and shotguns capable of holding more than 3 shotshells are allowed for hunting of light geese on any day when all other waterfowl hunting seasons are closed.
(14) In North Carolina, the season is closed for black ducks and mottled ducks October 19 through October 28 and November 4 through November 17.
(15) In North Carolina, the daily bag limit for scaup is 2 from January 9 through January 31.
(16) In North Carolina, the daily bag limit for mergansers is 5 of which no more than 2 may be hooded mergansers.
(17) In Pennsylvania, during the regular duck season in the North Zone, the daily bag limit for scaup is 2 from December 15 through January 6. During the regular duck season in the South Zone, the daily bag limit for scaup is 2 from December 29 through January 20. During the regular duck season in the Northwest Zone, the daily bag limit for scaup is 2 from November 23 through December 2 and from December 26 through January 6. During the regular duck season in the Lake Erie Zone, the daily bag limit for scaup is 2 from November 6 through November 28.
(18) In Pennsylvania, the daily bag limit is 3 Canada geese with a possession limit of 9 geese in the area south of SR 198 from the Ohio State line to the intersection of I-79, west of I-79 to SR 358, north of SR 358 to the Ohio State line.
(19) In Rhode Island, the daily bag limit for scaup is 2 from January 2 through January 21.
(20) In South Carolina, the daily bag limit of 6 may not exceed 1 black-bellied whistling-duck or hooded merganser. Further, the black duck/mottled duck limit is as follows: (1) For areas east and south of Interstate 95, either 1 black or 1 mottled duck in the daily bag in the aggregate; (2) for areas west and north of Interstate 95, either 2 black ducks, or 1 black duck and 1 mottled duck in the daily bag.
(21) In South Carolina, the daily bag limit for scaup is 2 on November 11, between November 18 and November 25, and between December 12 and December 22.
(22) In South Carolina, on November 11, only hunters 17 years of age or younger can hunt ducks [2 scaup], coots, and mergansers. The youth must be accompanied by a person 21 years of age or older who is properly licensed, including State and Federal waterfowl stamps. Youth who are 16 or 17 years of age who hunt on this day are not required to have a State license or State waterfowl stamp but must possess a Federal waterfowl stamp and migratory bird permit.
(23) In South Carolina, the daily bag limit may include no more than 2 white-fronted geese.
(24) In Vermont, the daily bag limit for scaup is 2 within the Lake Champlain Zone: From December 9 through December 28. Within the Interior Zone: From November 16 through December 5. Within the Connecticut River Zone: During the regular duck season the scaup bag limit will be 1 for the entire season.
(25) In Virginia, the season is closed for black ducks October 6 through October 9.
(26) In Virginia, the daily bag limit for scaup is 2 from January 12 through January 31.
(27) In West Virginia, the season is closed for eiders, whistling-ducks, and mottled ducks.
(28) In West Virginia, the daily bag limit for scaup is 2 from January 12 through January 31.

Mississippi Flyway

Flyway-Wide Restrictions

Duck Limits: The daily bag limit of 6 ducks may include no more than 4 mallards (no more than 2 of which may be females), 1 mottled duck, 2 black ducks, 1 pintail, 2 canvasbacks, 2 redheads, 1 scaup (except as footnoted below), and 3 wood ducks. The possession limit is three times the daily bag limit.

Merganser Limits: The daily bag limit is 5 mergansers and may include no more than 2 hooded mergansers. In States that include mergansers in the duck bag limit, the daily limit is the same as the duck bag limit, of which only 2 may be hooded mergansers. The possession limit is three times the daily bag limit.

Area | Season dates | Limits: Bag | Limits: Possession
Alabama:
Ducks | Nov. 24-Nov. 25 & | 6 | 18
| Dec. 2-Jan. 28 | 6 | 18
Mergansers | Same as for Ducks | 5 | 15
Coots | Same as for Ducks | 15 | 45
Dark Geese | Sept. 2-Oct. 1 & | 5 | 15
| Oct. 14-Oct. 28 & | 5 | 15
| Nov. 24-Nov. 25 & | 5 | 15
| Dec. 2-Jan. 28 | 5 | 15
Light Geese | Same as for Dark Geese | 5 | 15
Arkansas:
Ducks | Nov. 18-Nov. 26 & | 6 | 18
| Dec. 9-Dec. 23 & | 6 | 18
| Dec. 27-Jan. 31 | 6 | 18
Mergansers | Same as for Ducks | 5 | 10
Coots | Same as for Ducks | 15 | 45
Canada and Cackling Geese | Sept. 1-Oct. 15 & | 5 | 15
| Nov. 18-Nov. 26 & | 3 | 9
| Dec. 9-Dec. 23 & | 3 | 9
| Dec. 27-Jan. 31 | 3 | 9
White-fronted Geese | Oct. 28-Nov. 10 & | 3 | 9
| Nov. 18-Nov. 26 & | 3 | 9
| Dec. 9-Dec. 23 & | 3 | 9
| Dec. 27-Jan. 31 | 3 | 9
Brant | Closed
Light Geese | Same as for White-fronted Geese | 20
Illinois:
Ducks (1):
North Zone | Oct. 21-Dec. 19 | 6 | 18
Central Zone | Oct. 28-Dec. 26 | 6 | 18
South Central Zone | Nov. 11-Jan. 9 | 6 | 18
South Zone | Dec. 2-Jan. 30 | 6 | 18
Mergansers | Same as for Ducks | 5 | 15
Coots | Same as for Ducks | 15 | 45
Canada and Cackling Geese:
North Zone | Sept. 1-Sept. 15 & | 5 | 15
| Oct. 21-Jan. 18 | 3 | 9
Central Zone | Sept. 1-Sept. 15 & | 5 | 15
| Oct. 28-Nov. 5 & | 3 | 9
| Nov. 12-Jan. 31 | 3 | 9
South Central Zone | Sept. 1-Sept. 15 & | 2 | 6
| Nov. 11-Jan. 31 | 3 | 9
South Zone | Sept. 1-Sept. 15 & | 2 | 6
| Dec. 2-Jan. 31 | 3 | 9
White-fronted Geese:
North Zone | Oct. 23-Jan. 18 | 2 | 6
Central Zone | Nov. 5-Jan. 31 | 2 | 6
South Central Zone | Nov. 11-Jan. 31 | 2 | 6
South Zone | Dec. 2-Jan. 31 | 2 | 6
Light Geese:
North Zone | Oct. 21-Jan. 18 | 20
Central Zone | Oct. 28-Jan. 31 | 20
South Central Zone | Nov. 11-Jan. 31 | 20
South Zone | Dec. 2-Jan. 31 | 20
Brant | Same as for Light Geese | 1 | 3
Indiana:
Ducks (2):
North Zone | Oct. 28-Dec. 17 & | 6 | 18
| Dec. 26-Jan. 3 | 6 | 18
Central Zone | Nov. 4-Nov. 12 & | 6 | 18
| Nov. 24-Jan. 13 | 6 | 18
South Zone | Nov. 11-Nov. 12 & | 6 | 18
| Dec. 2-Jan. 28 | 6 | 18
Mergansers | Same as for Ducks | 5 | 15
Coots | Same as for Ducks | 15 | 45
Dark Geese (3):
North Zone | Sept. 9-Sept. 17 & | 5 | 15
| Oct. 28-Nov. 5 & | 5 | 15
| Nov. 18-Feb. 11 | 5 | 15
Central Zone | Sept. 9-Sept. 17 & | 5 | 15
| Nov. 4-Nov. 18 & | 5 | 15
| Nov. 24-Feb. 11 | 5 | 15
South Zone | Sept. 9-Sept. 17 & | 5 | 15
| Nov. 11-Feb. 11 | 5 | 15
Light Geese:
North Zone | Same as for Dark Geese | 20
Central Zone | Same as for Dark Geese | 20
South Zone | Same as for Dark Geese | 20
Iowa:
Ducks (4):
North Zone | Sept. 30-Oct. 6 & | 6 | 18
| Oct. 14-Dec. 5 | 6 | 18
Central Zone | Oct. 7-Oct. 13 & | 6 | 18
| Oct. 21-Dec. 12 | 6 | 18
South Zone | Oct. 14-Oct. 20 & | 6 | 18
| Oct. 28-Dec. 19 | 6 | 18
Mergansers | Same as for Ducks | 5 | 15
Coots | Same as for Ducks | 15 | 45
Dark Geese:
North Zone (5) | Sept. 9-Sept. 17 & | 5 | 15
| Sept. 23-Oct. 8 & | 5 | 15
| Oct. 14-Dec. 5 & | 5 | 15
| Dec. 16-Jan. 13 | 5 | 15
Central Zone (5) | Sept. 9-Sept. 17 & | 5 | 15
| Sept. 30-Oct. 15 & | 5 | 15
| Oct. 21-Dec. 12 & | 5 | 15
| Dec. 23-Jan. 20 | 5 | 15
South Zone (5) | Oct. 7-Oct. 22 & | 5 | 15
| Oct. 28-Dec. 19 & | 5 | 15
| Dec. 30-Jan. 27 | 5 | 15
Light Geese:
North Zone | Same as for Dark Geese | 20
Central Zone | Same as for Dark Geese | 20
South Zone | Same as for Dark Geese | 20
Kentucky:
Ducks (6):
West Zone | Nov. 23-Nov. 26 & | 6 | 18
| Dec. 7-Jan. 31 | 6 | 18
East Zone | Same as West Zone | 6 | 18
Mergansers | Same as for Ducks | 5 | 15
Coots | Same as for Ducks | 15 | 45
Canada and Cackling Geese
Eastern Zone | Sept. 16-Sept. 30 & | 5 | 15
| Nov. 23-Feb. 15 | 3 | 9
Western Zone | Sept. 1-Sept. 15 & | 5 | 15
| Nov. 23-Feb. 15 | 3 | 9
White-fronted Geese | Nov. 23-Feb. 15 | 2 | 6
Brant | Nov. 23-Feb. 15 | 1 | 3
Light Geese | Nov. 23-Feb. 15 | 20 | 60
Louisiana:
Ducks (7):
East Zone | Nov. 18-Dec. 3 & | 6 | 18
| Dec. 16-Jan. 28 | 6 | 18
West Zone | Nov. 11-Dec. 3 & | 6 | 18
| Dec. 11-Jan. 7 & | 6 | 18
| Jan. 13-Jan. 21 | 6 | 18
Mergansers | Same as for Ducks | 5 | 15
Coots | Same as for Ducks | 15 | 45
Canada and Cackling Geese:
East Zone | Nov. 4-Dec. 3 & | 1 | 3
| Dec. 16-Jan. 28 | 1 | 3
West Zone | Nov. 4-Dec. 3 & | 1 | 3
| Dec. 11-Jan. 7 & | 1 | 3
| Jan. 13-Jan. 28 | 1 | 3
White-fronted Geese | Same as for Canada and Cackling Geese | 3 | 9
Brant | Closed
Light Geese | Same as for Canada and Cackling Geese | 20
Michigan:
Ducks (8):
North Zone | Sept. 30-Nov. 26 & | 6 | 18
| Dec. 2-Dec. 3 | 6 | 18
Middle Zone | Oct. 7-Dec. 3 & | 6 | 18
| Dec. 16-Dec. 17 | 6 | 18
South Zone | Oct. 14-Dec. 10 & | 6 | 18
| Dec. 30-Dec. 31 | 6 | 18
Mergansers | Same as for Ducks | 5 | 15
Coots | Same as for Ducks | 15 | 45
Dark Geese (9):
North Zone | Sept. 1-Dec. 16 | 5 | 15
Middle Zone | Sept. 1-Sept. 30 & | 5 | 15
| Oct. 7-Dec. 22 | 5 | 15
South Zone:
Muskegon Wastewater Game Management Unit (GMU) | Oct. 17-Dec. 23 | 5 | 15
Allegan County GMU | Sept. 1-Sept. 30 & | 5 | 15
| Nov. 4-Nov. 12 & | 5 | 15
| Nov. 25-Dec. 3 & | 5 | 15
| Dec. 16-Feb. 12 | 5 | 15
Remainder of South Zone | Sept. 1-Sept. 30 & | 5 | 15
| Oct. 14-Dec. 10 & | 5 | 15
| Dec. 30-Jan. 7 & | 5 | 15
| Feb. 3-Feb. 12 | 5 | 15
Light Geese:
North Zone | Same as for Dark Geese | 20 | 60
Middle Zone | Same as for Dark Geese | 20 | 60
South Zone:
Muskegon Wastewater GMU | Same as for Dark Geese | 20 | 60
Allegan County GMU | Same as for Dark Geese | 20 | 60
Remainder of South Zone | Same as for Dark Geese | 20 | 60
Minnesota:
Ducks (10):
North Zone | Sept. 23-Nov. 21 | 6 | 18
Central Zone | Sept. 23-Oct. 1 & | 6 | 18
| Oct. 7-Nov. 26 | 6 | 18
South Zone | Sept. 23-Oct. 1 & | 6 | 18
| Oct. 7-Nov. 26 | 6 | 18
Mergansers | Same as for Ducks | 5 | 15
Coots (11) | Same as for Ducks | 15 | 45
Dark Geese:
North Zone | Sept. 2-Sept. 17 & | 5 | 15
| Sept. 23-Dec. 22 | 5 | 15
Central Zone | Sept. 2-Sept. 17 & | 5 | 15
| Sept. 23-Oct. 1 & | 5 | 15
| Oct. 7-Dec. 27 | 5 | 15
South Zone | Sept. 2-Sept. 17 & | 5 | 15
| Sept. 23-Oct. 1 & | 5 | 15
| Oct. 7-Dec. 27 | 5 | 15
Light Geese:
North Zone | Same as for Dark Geese | 20 | 60
Central Zone | Same as for Dark Geese | 20 | 60
South Zone | Same as for Dark Geese | 20 | 60
Mississippi:
Ducks (6) | Nov. 24-Nov. 26 & | 6 | 18
| Dec. 1-Dec. 3 & | 6 | 18
| Dec. 9-Jan. 31 | 6 | 18
Mergansers | Same as for Ducks | 5 | 15
Coots | Same as for Ducks | 15 | 45
Canada and Cackling Geese | Sept. 1-Sept 30 & | 5 | 15
| Nov. 10-Nov. 26 & | 5 | 15
| Dec. 1-Dec. 3 & | 5 | 15
| Dec. 9-Jan. 31 | 5 | 15
White-fronted Geese | Nov. 10-Nov. 26 & | 3 | 9
| Dec. 1-Dec. 3 & | 3 | 9
| Dec. 9-Jan. 31 | 3 | 9
Brant | Same as for White-fronted Geese | 1 | 3
Light Geese | Same as for White-fronted Geese | 20
Missouri:
Ducks and Mergansers (12):
North Zone | Oct. 28-Dec. 26 | 6 | 18
Middle Zone | Nov. 4-Nov. 12 & | 6 | 18
| Nov. 18-Jan. 7 | 6 | 18
South Zone | Nov. 23-Nov. 26 & | 6 | 18
| Dec. 7-Jan. 31 | 6 | 18
Coots | Same as for Ducks | 15 | 45
Canada and Cackling Geese, and Brant (13):
North Zone | Oct. 7-Oct. 15 & | 3 | 9
| Nov. 11-Feb. 6 | 3 | 9
Middle Zone | Same as North Zone | 3 | 9
South Zone | Same as North Zone | 3 | 9
White-fronted Geese:
North Zone | Nov. 11-Feb. 6 | 2 | 6
Middle Zone | Same as North Zone | 2 | 6
South Zone | Same as North Zone | 2 | 6
Light Geese:
North Zone | Nov. 11-Feb. 6 | 20
Middle Zone | Same as North Zone | 20
South Zone | Same as North Zone | 20
Ohio:
Ducks (14):
Lake Erie Marsh Zone | Oct. 14-Oct. 29 & | 6 | 18
| Nov. 4-Dec. 17 | 6 | 18
North Zone | Oct. 21-Oct. 29 & | 6 | 18
| Nov. 11-Dec. 31 | 6 | 18
South Zone | Oct. 21-Oct. 29 & | 6 | 18
| Dec. 9-Jan. 28 | 6 | 18
Mergansers | Same as for Ducks | 5 | 15
Coots | Same as for Ducks | 15 | 45
Dark Geese (15):
Lake Erie Goose Zone | Sept. 2-Sept. 10 & | 5 | 15
| Oct. 14-Oct. 29 & | 5 | 15
| Nov. 4-Dec. 17 | 5 | 15
| Dec. 31-Feb. 4 | 5 | 15
North Zone | Sept. 2-Sept. 10 & | 5 | 15
| Oct. 21-Oct. 29 & | 5 | 15
| Nov. 11-Feb. 5 | 5 | 15
South Zone | Sept. 2-Sept. 10 & | 5 | 15
| Oct. 21-Oct. 29 & | 5 | 15
| Nov. 18-Feb. 12 | 5 | 15
Light Geese:
Lake Erie Goose Zone | Same as for Dark Geese | 10 | 30
North Zone | Same as for Dark Geese | 10 | 30
South Zone | Same as for Dark Geese | 10 | 30
Tennessee:
Ducks (6):
Reelfoot Zone | Nov. 25-Nov. 26 & | 6 | 18
| Dec. 5-Jan. 31 | 6 | 18
Rest of State | Nov. 25-Nov. 26 & | 6 | 18
| Dec. 5-Jan. 31 | 6 | 18
Mergansers | Same as for Ducks | 5 | 15
Coots | Same as for Ducks | 15 | 45
Canada and Cackling Geese:
Reelfoot Zone | Sept. 1-Sept. 17 & | 5 | 15
| Oct. 14-Oct. 24 & | 3 | 9
| Nov. 25-Nov. 26 & | 3 | 9
| Dec. 5-Feb. 11 | 3 | 9
Rest of State | Sept. 1-Sept. 17 & | 5 | 15
| Oct. 14-Oct. 24 & | 3 | 9
| Nov. 25-Nov. 26 & | 3 | 9
| Dec. 5-Feb. 11 | 3 | 9
White-fronted Geese:
Reelfoot Zone | Nov. 25-Nov. 26 & | 3 | 9
| Dec. 5-Feb. 11 | 3 | 9
Rest of State | Nov. 25-Nov. 26 & | 3 | 9
| Dec. 5-Feb. 11 | 3 | 9
Brant | Same as for Canada and Cackling Geese | 1 | 3
Light Geese | Same as for Canada and Cackling Geese | 20
Wisconsin:
Ducks (16):
North Zone | Sept. 23-Nov. 21 | 6 | 18
South Zone | Sept. 30-Oct. 8 & | 6 | 18
| Oct. 14-Dec. 3 | 6 | 18
Open Water Zone | Oct. 14-Dec. 12 | 6 | 18
Mergansers | Same as for Ducks | 5 | 15
Coots | Same as for Ducks | 15 | 45
Dark Geese
North Zone (17) | Sept. 1-Sept. 15 | 5 | 15
| Sept. 16-Dec. 16 | 3 | 9
South Zone (17) | Sept. 1-Sept. 15 | 5 | 15
| Sept. 16-Oct. 8 & | 3 | 9
| Oct. 14-Dec. 3 & | 3 | 9
| Dec. 16-Jan. 2 | 3 | 9
Mississippi River Zone (17) | Sept. 1-Sept. 15 | 5 | 15
| Oct. 1-Oct. 9 & | 3 | 9
| Oct. 15-Jan. 3 | 3 | 9
Light Geese:
North Zone | Sept. 1-Dec. 16 | 20
South Zone | Sept. 16-Oct. 8 & | 20
| Oct. 14-Dec. 3 & | 20
| Dec. 16-Jan. 2 | 20
Mississippi River Zone | Sept. 16-Oct. 8 & | 20
| Oct. 14-Oct. 3 & | 20
| Oct. 16-Jan. 2 | 20
(1) In Illinois, the daily bag limit for scaup is 2 during the first 45 days in each of the 4 Zones.
(2) In Indiana, the daily bag limit for scaup is 2 from November 12 through December 17 and from December 26 through January 3 in the North Zone, from November 30 through January 8 in the Central Zone, and from December 15 through January 28 in the South Zone.
(3) In Indiana, the daily bag limit for dark geese is 5 per day in the aggregate. The possession limit is three times the daily bag limit.
(4) In Iowa, the daily bag limit for scaup is 2 for the last 45 days of the season.
(5) In Iowa, Canada and cackling geese only September 9 through September 17, for the North and Central Zones. After September 17, the dark goose daily bag limit is 5 and may not include more than 2 Canada and cackling geese September 23 through October 8 in the North Zone, September 30 through October 15 in the Central Zone, and October 7 through October 22 in the South Zone. No more than 3 Canada and cackling geese thereafter, until the end of the season.
(6) In Kentucky, Mississippi, and Tennessee, the daily bag limit for scaup is 2 from December 18 through January 31.
(7) In Louisiana, the daily bag limit for scaup is 2 from November 26 through January 21 in the West Zone and from December 3 through January 28 in the East Zone. The mottled duck daily bag limit is 0 for the first 15 days of the season in each zone and 1 thereafter.
(8) In Michigan, the daily bag limit for scaup is 2 from September 30 through November 13 in the North Zone, from October 23 through December 3 and December 16 through December 17 in the Middle Zone, and from October 30 through December 10 and December 30 through December 31 in the South Zone.
(9) In Michigan, the dark goose daily bag limit is 5 and may not include more than 1 brant.
(10) In Minnesota, the daily bag limit for scaup is 2 Statewide from October 13 through the remainder of the season.
(11) In Minnesota, the daily bag limit is 15, and the possession limit is 45 coots and gallinules in the aggregate.
(12) In Missouri, the daily bag limit for scaup is 2 from October 28 through December 11 in the North Zone, from November 4 through November 12 and November 18 through December 23 in the Middle Zone, and from November 23 through November 26 and December 7 through January 16 in the South Zone.
(13) In Missouri, Canada and cackling geese and brant have an aggregate daily bag and possession limits of 3 and 9, respectively.
(14) In Ohio, the daily bag limit for scaup is 2 on October 29 and from November 4 through December 17 in the Lake Erie Zone, from November 17 through December 31 in the North Zone, and from December 15 through January 28 in the South Zone.
(15) In Ohio, the daily bag limit for dark geese may include no more than 1 brant, and only Canada and cackling geese during the first segment (September 2 through September 10).
(16) In Wisconsin, the daily bag limit for scaup is 2 from September 23 through November 6 in the North Zone, from October 20 through December 3 in the South Zone, and from October 14 through November 27 in the Open Water Zone.
(17) In Wisconsin, Canada and cackling geese only September 1 through 15. After September 15, the bag limit for dark geese is 3 and the possession is 9. The limit and possession for white-fronted geese and brant may be no more than 1 and 3, in the aggregate with Canada and cackling geese.

Central Flyway

Flyway-Wide Restrictions

Duck and Merganser Limits: The daily bag limit is 6 ducks (including mergansers), which may include no more than 5 mallards (2 female mallards), 1 pintail, 2 canvasbacks, 2 redheads, 1 scaup, 3 wood ducks, and 6 mergansers. The possession limit is three times the daily bag limit.

Area | Season dates | Limits: Bag | Limits: Possession
Colorado:
Ducks and Mergansers:
Southeast Zone | Oct. 28-Jan. 31 | 6 | 18
Northeast Zone | Oct. 14-Nov. 26 & | 6 | 18
| Dec. 11-Jan. 31 | 6 | 18
Mountain/Foothills Zone | Sept. 30-Nov. 26 & | 6 | 18
| Dec. 25-Jan. 31 | 6 | 18
Coots | Same as for Ducks | 15 | 45
Dark Geese:
South Park Unit | Sept. 30-Jan. 12 | 5 | 15
San Luis Valley Unit | Sept. 30-Oct. 18 & | 5 | 15
| Nov. 18-Feb. 11 | 5 | 15
North Park Unit | Sept. 30-Jan. 12 | 5 | 15
Rest of State in Central Flyway | Oct. 30-Feb. 11 | 5 | 15
Light Geese:
Statewide | Oct. 28-Feb. 11 | 50 |
Kansas:
Ducks and Mergansers:
High Plains | Oct. 7-Dec. 31 & | 6 | 18
| Jan. 19-Jan. 28 | 6 | 18
Low Plains:
Early Zone | Oct. 7-Dec. 3 & | 6 | 18
| Dec. 23-Jan. 7 | 6 | 18
Late Zone | Oct. 28-Dec. 31 & | 6 | 18
| Jan. 20-Jan. 28 | 6 | 18
Southeast Zone | Nov. 11-Jan. 7 & | 6 | 18
| Jan. 13-Jan. 28 | 6 | 18
Coots | Same as for Ducks | 15 | 45
Dark Geese (1) | Oct. 28-Oct. 29 & | 6 | 18
| Nov. 1-Feb. 11 | 6 | 18
White-fronted Geese | Oct. 28-Dec. 31 & | 2 | 6
| Jan. 20-Feb. 11 | 2 | 6
Light Geese | Oct. 28-Oct. 29 & | 50 |
| Nov. 1-Feb. 11 | 50 | ;
Montana:
Ducks and Mergansers (2):
Zone 1 | Sept. 30-Jan. 4 | 6 | 18
Zone 2 | Sept. 30-Oct. 8 & | 6 | 18
| Oct. 21-Jan. 16 | 6 | 18
Coots | Same as for Ducks | 15 | 45
Dark Geese:
Zone 1 | Sept. 30-Jan. 12 | 5 | 15
Zone 2 | Sept. 30-Oct. 8 & | 5 | 15
| Oct. 21-Jan. 24 | 5 | 15
Light Geese:
Zone 1 | Same as for Dark Geese | 20 | 60
Zone 2 | Same as for Dark Geese | 20 | 60
Nebraska:
Ducks and Mergansers (3):
High Plains Unit | Jan. 10-Jan. 31 | 6 | 18
Zone 1 | Oct. 14-Dec. 26 | 6 | 18
Zone 2: | Oct. 7-Dec. 19 | 6 | 18
Zone 3: | Oct. 28-Jan. 9 | 6 | 18
Zone 4 | Oct. 28-Jan. 9 | 6 | 18
Coots | Same as for Ducks | 15 | 45
Canada and Cackling Geese:
Niobrara Unit | Oct. 28-Feb. 9 | 5 | 15
North Central Unit | Oct. 7-Jan. 19 | 5 | 15
Platte River Unit | Oct. 28-Feb. 9 | 5 | 15
White-fronted Geese | Oct. 7-Dec. 17 & | 2 | 6
| Jan. 25-Feb. 9 | 2 | 6
Light Geese | Oct. 7-Jan. 3 & | 50 |
| Jan. 25-Feb. 9 | 50 |
New Mexico:
Ducks and Mergansers (4):
North Zone | Oct. 7-Jan. 10 | 6 | 18
South Zone | Oct. 28-Jan. 31 | 6 | 18
Coots | Same as for Ducks | 15 | 45
Dark Geese:
Middle Rio Grande Unit | Dec. 19-Jan. 31 | 2 | 2
Rest of State | Oct. 17-Jan. 31 | 5 | 15
Light Geese | Oct. 17-Jan. 31 | 50 |
North Dakota: |  |  |
Ducks and Mergansers (2): |  |  |
High Plains | Sept. 23-Dec. 3 & | 6 | 18
| Dec. 9-Dec 31 | 6 | 18
Low Plains | Sept. 23-Dec. 3 | 6 | 18
Coots | Same as for Ducks | 15 | 45
Canada and Cackling Geese and Brant (5):
Missouri River Zone | Sept. 23-Dec. 29 | 5 | 15
Western ND Zone | Sept. 23-Dec. 21 | 8 | 24
Rest of State | Sept. 23-Dec. 16 | 8 | 24
White-fronted Geese | Sept. 23-Dec. 3 | 3 | 9
Light Geese | Sept. 23-Dec. 29 | 50 |
Oklahoma:
Ducks and Mergansers:
High Plains | Oct. 7-Jan. 3 | 6 | 18
Low Plains: |  |  |
Zone 1 | Nov. 11-Nov. 26 & | 6 | 18
| Dec. 2-Jan. 28 | 6 | 18
Zone 2 | Nov. 11-Nov. 26 & | 6 | 18
| Dec. 2-Jan. 28 | 6 | 18
Coots | Same as for Ducks | 15 | 45
Canada and Cackling Geese and Brant (1) | Nov. 4-Nov. 26 & | 8 | 24
| Dec. 2-Feb. 11 | 8 | 24
White-fronted Geese | Nov. 4-Nov. 26 & | 2 | 6
| Dec. 2-Feb. 4 | 2 | 6
Light Geese | Nov. 4-Nov. 26 & | 50 |
| Dec. 2-Feb. 11 | 50 |
South Dakota:
Ducks and Mergansers (2)(3):
High Plains | Oct. 14-Jan. 18 | 6 | 18
Low Plains:
North Zone | Sept. 23-Dec. 5 | 6 | 18
Middle Zone | Sept. 23-Dec. 5 | 6 | 18
South Zone | Oct. 28-Jan. 9 | 6 | 18
Coots | Same as for Ducks | 15 | 45
Canada and Cackling Geese:
Unit 1 | Oct. 1-Dec. 16 | 8 | 24
Unit 2 | Nov. 6-Feb. 18 | 4 | 12
Unit 3 | Oct. 21-Dec. 24 & | 4 | 12
| Jan. 13-Jan. 21 | 4 | 12
White-fronted Geese | Sept. 30-Dec. 12 | 3 | 9
Light Geese | Sept. 30-Jan. 12 | 50 |
Texas:
Ducks and Mergansers (6):
High Plains | Oct. 28-Oct. 29 & | 6 | 18
| Nov. 3-Jan. 28 | 6 | 18
Low Plains:
North Zone | Nov. 11-Nov. 26 & | 6 | 18
| Dec. 2-Jan. 28 | 6 | 18
South Zone | Nov. 4-Nov. 26 & | 6 | 18
| Dec. 9-Jan. 28 | 6 | 18
Coots | Same as for Ducks | 15 | 45
Canada and Cackling Geese and Brant (7):
Southeast Goose Zone | Nov. 4-Jan. 28 | 5 | 15
Northeast Goose Zone | Nov. 4-Jan. 28 | 5 | 15
West Goose Zone | Nov. 4-Feb. 4 | 5 | 15
White-fronted Geese (7):
Southeast Goose Zone | Nov. 4-Jan. 28 | 2 | 6
Northeast Goose Zone | Nov. 4-Jan. 28 | 2 | 6
West Goose Zone | Nov. 4-Feb. 4 | 2 | 6
Light Geese:
Southeast Goose Zone | Nov. 4-Jan. 28 | 10 | —
Northeast Goose Zone | Nov. 4-Jan. 28 | 10 |
West Goose Zone | Nov. 4-Feb. 4 | 10 |
Wyoming:
Ducks and Mergansers (2):
Zone C1 | Sept. 30-Oct. 15 & | 6 | 18
| Nov. 4-Jan. 23 | 6 | 18
Zone C2 | Sept. 23-Dec. 3 & | 6 | 18
| Dec. 16-Jan. 9 | 6 | 18
Zone C3 | Same as Zone C2 | 6 | 18
Coots | Same as for Ducks | 15 | 45
Dark Geese:
Zone G1A (8) | Sept. 30-Oct. 11 & | 2 | 6
| Nov. 18-Feb. 18 | 4 | 12
Zone G1 | Sept. 30-Oct. 8 & | 5 | 15
| Nov. 4-Nov. 26 & | 5 | 15
| Dec. 8-Feb. 18 | 5 | 15
Zone G2 | Sept. 23-Dec. 3 & | 5 | 15
| Dec. 16-Jan. 17 | 5 | 15
Zone G3 | Same as Zone G2 | 5 | 15
Zone G4 | Same as Zone G1 | 5 | 15
Light Geese | Sept. 30-Dec. 31 & | 20 | 60
| Feb. 7-Feb. 18 | 20 | 60
(1) In Kansas and Oklahoma, dark geese include Canada, cackling geese, brant, and all other geese except white-fronted geese and light geese.
(2) In Montana, during the first 9 days of the duck season, and in North Dakota, South Dakota (Tier I license), and Wyoming, during the first 16 days of the duck season, the daily bag and possession limit may include 2 and 6 additional blue-winged teal, respectively.
(3) In Nebraska and South Dakota, for hunters possessing a Tier II license, the daily bag limit is 3 ducks or mergansers of any species in the aggregate, and the possession limit is 9.
(4) In New Mexico, Mexican ducks are included in the aggregate with mallards.
(5) In North Dakota, see State regulations for additional shooting hour restrictions.
(6) In Texas, the daily bag limit is 6 ducks, which may include no more than 5 mallards (only 2 of which may be females), 2 redheads, 3 wood ducks, 1 scaup, 2 canvasbacks, 1 pintail, and 1 dusky duck (mottled duck, Mexican duck, black duck and their hybrids). The season for dusky ducks is closed the first 5 days of the season in all zones. The possession limit is three times the daily bag limit.
(7) In Texas, in the East and West Goose Zone, the daily bag limit for dark geese is 5 in the aggregate and may include no more than 2 white-fronted geese. Possession limits are three times the daily bag limits.
(8) For Dark Goose Zone G1A, see State regulations for additional restrictions.

Pacific Flyway

Flyway-Wide Restrictions

Duck and Merganser Limits: The daily bag limit of 7 ducks (including mergansers) may include no more than 2 female mallards, 1 pintail, 2 redheads, 2 scaup, and 2 canvasbacks. The possession limit is three times the daily bag limit.

Coot and Gallinule Limits: Daily bag and possession limits are in the aggregate for the two groups.

Area | Season dates | Limits: Bag | Limits: Possession
Arizona:
Ducks (1):
North Zone:
Scaup | Nov. 7-Jan. 31 | 2 | 6
Other Ducks | Oct. 23-Jan. 31 | 7 | 21
South Zone:
Scaup | Nov. 7-Jan. 31 | 2 | 6
Other Ducks | Oct. 23-Jan. 31 | 7 | 21
Coots and Gallinules | Same as for Other Ducks | 25 | 75
Dark Geese:
North Zone | Oct. 23-Jan. 31 | 5 | 15
South Zone | Oct. 23-Jan. 31 | 5 | 15
Light Geese | Same as for Dark Geese | 10 | 30
California:
Ducks:
Northeastern Zone:
Scaup | Oct. 7-Dec. 3 & | 2 | 6
| Dec. 21-Jan. 17 | 2 | 6
Other Ducks | Oct. 7-Jan. 17 | 7 | 21
Colorado River Zone:
Scaup | Nov. 7-Jan. 31 | 2 | 6
Other Ducks | Oct. 23-Jan. 31 | 7 | 21
Southern Zone:
Scaup | Nov. 7-Jan. 31 | 2 | 6
Other Ducks | Oct. 21-Jan. 31 | 7 | 21
Southern San Joaquin Valley Zone:
Scaup | Nov. 7-Jan. 31 | 2 | 6
Other Ducks | Oct. 21-Jan. 31 | 7 | 21
Balance of State Zone:
Scaup | Nov. 7-Jan. 31 | 2 | 6
Other Ducks | Oct. 21-Jan. 31 | 7 | 21
Coots and Gallinule | Same as for Other Ducks | 25 | 75
Canada and Cackling Geese (2)(3):
Northeastern Zone (4) | Oct. 7-Jan. 14 | 10 | 30
Klamath Basin Special Management Area | Oct. 7-Jan. 14 | 10 | 30
Colorado River Zone | Oct. 23-Jan. 31 | 4 | 12
Southern Zone | Oct. 21-Jan. 31 | 3 | 9
Balance of State Zone | Sept. 30-Oct. 2 & | 10 | 30
| Oct. 21-Jan. 28 & | 10 | 30
| Feb. 17-Feb. 18 | 10 | 30
North Coast Special Management Area | Oct. 7-Dec. 22 & | 10 | 30
| Feb. 12-Mar. 10 | 10 | 30
White-fronted Geese (2):
Northeastern Zone | Oct. 7-Dec. 3 & | 10 | 30
| Jan. 4-Jan. 17 & | 10 | 30
| Feb. 7-Mar.10 | 10 | 30
Klamath Basin Special Management Area | Oct. 7-Jan. 19 | 10 | 30
Colorado River Zone | Oct. 23-Jan. 31 | 4 | 12
Southern Zone | Oct. 21-Jan. 31 | 3 | 9
Balance of State Zone | Oct. 21-Jan. 28 & | 10 | 30
| Feb. 17-Feb. 21 | 10 | 30
Sacramento Valley Special Management Area | Oct. 21-Dec. 21 | 3 | 9
Light Geese:
Northeastern Zone | Oct. 7-Dec. 3 & | 20 | 60
| Jan. 4-Jan. 17 & | 20 | 60
| Feb. 7-Mar.10 | 20 | 60
Klamath Basin Special Management Area | Oct. 7-Jan. 19 | 20 | 60
Colorado River Zone | Oct. 23-Jan. 31 | 20 | 60
Southern Zone | Oct. 21-Jan. 31 | 20 | 60
Imperial County Special Management Area | Nov. 4-Feb. 2 & | 20 | 60
| Feb. 5-Feb. 9 & | 20 | 60
| Feb. 12-Feb. 20 | 20 | 60
Balance of State Zone | Oct. 21-Jan. 28 & | 20 | 60
| Feb. 17-Feb. 21 | 20 | 60
Brant:
Northern Zone | Nov. 18-Dec. 14 | 2 | 6
Balance of State Zone | Nov. 19-Dec. 15 | 2 | 6
Colorado:
Ducks:
East Zone:
Scaup | Sept. 30-Dec. 24 | 2 | 6
Other Ducks | Sept. 30-Jan. 12 | 7 | 21
West Zone:
Scaup | Sept. 30-Oct. 17 & | 2 | 6
| Nov. 6-Jan. 12 | 2 | 6
Other Ducks | Sept. 30-Oct. 17 & | 7 | 21
| Nov. 6-Jan. 31 | 7 | 21
Coots | Same as for Other Ducks | 25 | 75
Dark Geese:
East Zone | Sept. 30-Jan. 3 | 5 | 15
West Zone | Sept. 30-Oct. 8 & | 5 | 15
| Nov. 6-Jan. 31 | 5 | 15
Light Geese | Same as for Dark Geese | 10 | 30
Idaho:
Ducks:
Zone 1:
Scaup | Oct. 7-Dec. 31 | 2 | 6
Other Ducks | Oct. 7-Jan. 19 | 7 | 21
Zone 2:
Scaup | Oct. 26-Jan. 19 | 2 | 6
Other Ducks | Oct. 7-Jan. 19 | 7 | 21
Zone 3:
Scaup | Nov. 7-Jan. 31 | 2 | 6
Other Ducks | Oct. 19-Jan. 31 | 7 | 21
Zone 4:
Scaup | Oct. 7-Dec. 31 | 2 | 6
Other Ducks | Oct. 7-Jan. 19 | 7 | 21
Coots | Same as for Other Ducks | 25 | 75
Canada and Cackling Geese, and Brant (5):
Zone 1 | Oct. 7-Jan. 19 | 5 | 15
Zone 2 | Oct. 19-Jan. 31 | 5 | 15
Zone 3 | Oct. 19-Jan. 31 | 5 | 15
Zone 4 | Oct. 7-Jan. 4 | 5 | 15
Zone 5 | Oct. 7-Jan. 19 | 5 | 15
Zone 6 | Oct. 7-Oct. 22 | 5 | 15
| Nov. 4-Jan. 31 | 5 | 15
White-fronted Geese:
Zone 1 | Oct. 7-Jan. 19 | 10 | 30
Zone 2 | Oct. 7-Jan. 19 | 10 | 30
Zone 3 | Oct. 19-Jan. 31 | 10 | 30
Zone 4 | Nov. 6-Feb. 18 | 10 | 30
Zone 5 | Oct. 7-Jan. 19 | 10 | 30
Zone 6 | Oct. 7-Jan. 19 | 10 | 30
Light Geese:
Zone 1 | Oct. 7-Jan. 19 | 20 | 60
Zone 2 | Oct. 7-Dec. 13 & | 20 | 60
| Feb. 3-Mar. 10 | 20 | 60
Zone 3 | Nov. 27-Mar. 10 | 20 | 60
Zone 4 | Oct. 19-Jan. 31 | 20 | 60
Zone 5 | Oct. 7-Jan. 19 | 20 | 60
Zone 6 | Oct. 7-Jan. 19 | 20 | 60
Zone 7 | Oct. 7-Jan. 19 | 20 | 60
Montana:
Ducks:
Scaup | Sept. 30-Dec. 24 | 2 | 6
Other Ducks | Sept. 30-Jan. 12 | 7 | 21
Coots | Same as for Other Ducks | 25 | 25
Dark Geese (6) | Sept. 30-Jan. 12 | 5 | 15
Light Geese (6) | Same as for Dark Geese | 20 | 60
Nevada:
Ducks:
Northeast Zone:
Scaup | Sept. 23-Nov. 28 & | 2 | 6
| Dec. 9-Dec. 27 | 2 | 6
Other Ducks | Sept. 23-Nov. 28 & | 7 | 21
| Dec. 9-Jan. 15 | 7 | 21
Northwest Zone:
Scaup | Nov. 2-Jan. 7 & | 2 | 6
| Jan. 10-Jan. 28 | 2 | 6
Other Ducks | Oct. 14-Jan. 7 & | 7 | 21
| Jan. 10-Jan. 28 | 7 | 21
South Zone:
Scaup | Nov. 4-Jan. 28 | 2 | 6
Other Ducks | Oct. 14-Oct. 22 & | 7 | 21
| Oct. 25-Jan. 28 | 7 | 21
Moapa Valley Special Management Area (7):
Scaup | Nov. 4-Jan. 28 | 2 | 6
Other Ducks | Oct. 28-Jan. 28 | 7 | 21
Coots and Gallinule | Same as for Other Ducks | 25 | 75
Canada and Cackling Geese, and Brant (5):
Northeast Zone | Sept. 23-Nov. 28 & | 5 | 15
| Dec. 9-Jan. 15 | 5 | 15
Northwest Zone | Oct. 14-Jan. 7 & | 5 | 15
| Jan. 10-Jan. 28 | 5 | 15
South Zone | Oct. 14-Oct. 22 & | 5 | 15
| Oct. 25-Jan. 28 | 5 | 15
Moapa Valley Special Management Area (7): | Oct. 28-Jan. 28 | 5 | 15
White-fronted Geese:
Northeast Zone | Same as for Canada and Cackling Geese, and Brant | 10 | 30
Northwest Zone | Same as for Canada and Cackling Geese, and Brant | 10 | 30
South Zone | Same as for Canada and Cackling Geese, and Brant | 10 | 30
Moapa Valley Special Management Area (7): | Same as for Canada and Cackling Geese, and Brant | 10 | 30
Light Geese:
Northeast Zone (8) | Sept. 23-Nov. 28 & | 20 | 60
| Dec. 9-Jan. 15 | 20 | 60
Northwest Zone (9) | Nov. 4-Jan. 7 & | 20 | 60
| Jan. 10-Jan. 28 & | 20 | 60
| Feb. 19-Mar. 10 | 20 | 60
South Zone | Oct. 14-Oct. 22 & | 20 | 60
| Oct. 25-Jan. 28 | 20 | 60
Moapa Valley Special Management Area (7): | Oct. 28-Jan. 28 | 20 | 60
New Mexico:
Ducks:
Scaup | Oct. 19-Jan. 12 | 2 | 6
Other Ducks | Oct. 19-Jan. 31 | 7 | 21
Coots and Gallinules | Same as for Other Ducks | 25 | 75
Canada and Cackling Geese, and Brant (5):
North Zone | Sept. 23-Oct. 8 & | 5 | 15
| Nov. 2-Jan. 31 | 5 | 15
South Zone | Oct. 17-Jan. 31 | 5 | 15
White-fronted Geese:
North Zone | Same as for Canada and Cackling Geese, and Brant | 10 | 30
South Zone | Same as for Canada and Cackling Geese, and Brant | 10 | 30
Light Geese:
North Zone | Same as for Canada and Cackling Geese, and Brant | 20 | 60
South Zone | Same as for Canada and Cackling Geese, and Brant | 20 | 60
Oregon:
Ducks:
Zone 1:
Columbia Basin Unit and Rest of Zone 1:
Scaup | Nov. 4-Jan. 28 | 2 | 6
Other Ducks | Oct. 14-Oct. 29 & | 7 | 21
| Nov. 2-Jan. 28 | 7 | 21
Zone 2:
Scaup | Oct. 14-Dec. 3 & | 2 | 6
| Dec. 7-Jan. 10 | 2 | 6
Other Ducks | Oct. 14-Dec. 3 & | 7 | 21
| Dec. 7-Jan. 28 | 7 | 21
Coots | Same as for Other Ducks | 25 | 75
Canada and Cackling Geese:
Northwest Permit Zone (10)(11) | Oct. 21-Oct. 29 & | 3 | 9
| Nov. 18-Jan. 12 & | 3 | 9
| Feb. 10-Mar. 10 | 3 | 9
Southwest Zone | Oct. 14-Oct. 29 & | 4 | 12
| Nov. 7-Jan. 28 | 4 | 12
South Coast Zone | Oct. 7-Dec. 10 & | 6 | 18
| Dec. 23-Jan. 14 & | 6 | 18
| Feb. 24-Mar. 10 | 6 | 18
Eastern Zone | Oct. 14-Dec. 3 & | 4 | 12
| Dec. 12-Jan. 28 | 4 | 12
Mid-Columbia Zone | Oct. 14-Oct. 29 & | 4 | 12
| Nov. 7-Jan. 28 | 4 | 12
White-fronted Geese:
Northwest Permit Zone (10) | Same as for Canada and Cackling Geese | 10 | 30
Southwest Zone | Same as for Canada and Cackling Geese | 10 | 30
South Coast Zone | Same as for Canada and Cackling Geese | 10 | 30
Eastern Zone (12) | Oct. 14-Dec. 3 & | 10 | 30
| Jan. 17-Mar. 10 | 10 | 30
Mid-Columbia Zone | Nov. 7-Jan. 28 & | 10 | 30
| Feb. 3-Feb. 24 | 10 | 30
Light Geese:
Northwest Permit Zone (10) | Same as for Canada and Cackling Geese | 20 | 60
Southwest Zone | Same as for Canada and Cackling Geese | 20 | 60
South Coast Zone | Same as for Canada and Cackling Geese | 20 | 60
Eastern Zone | Same as for White-fronted Geese | 20 | 60
Mid-Columbia Zone | Same as for White-fronted Geese | 20 | 60
Brant | Nov. 25-Dec. 10 | 2 | 6
Utah:
Ducks:
Northern Zone:
Scaup | Oct. 7-Dec. 31 | 2 | 6
Other Ducks | Oct. 7-Jan. 20 | 7 | 21
Southern Zone:
Scaup | Nov. 3-Jan. 27 | 2 | 6
Other Ducks | Oct. 14-Jan. 27 | 7 | 21
Coots | Same as for Other Ducks | 25 | 75
Canada and Cackling Geese, and Brant (5):
East Box Elder County Zone | Oct. 7-Jan. 20 | 5 | 15
Wasatch Front Zone | Oct. 7-Oct. 14 & | 5 | 15
| Nov. 10-Feb. 15 | 5 | 15
Northern Zone | Oct. 7-Oct. 14 & | 5 | 15
| Oct. 26-Jan. 31 | 5 | 15
Southern Zone | Oct. 14-Jan. 27 | 5 | 15
White-fronted Geese:
East Box Elder County Zone | Same as for Canada and Cackling Geese, and Brant | 10 | 30
Wasatch Front Zone | Same as for Canada and Cackling Geese, and Brant | 10 | 30
Northern Zone | Same as for Canada and Cackling Geese, and Brant | 10 | 30
Southern Zone | Same as for Canada and Cackling Geese, and Brant | 10 | 30
Light Geese
Southern Zone | Oct. 25-Dec. 15 & | 20 | 60
| Jan. 16-Mar. 10 | 20 | 60
Rest of State | Oct. 16-Dec. 22 & | 20 | 60
| Feb. 1-Mar. 10 | 20 | 60
Washington:
Ducks (13):
East and West Zones (14):
Scaup | Nov. 4-Jan. 28 | 2 | 6
Other Ducks | Oct. 14-Oct 22 & | 7 | 21
| Oct. 25-Jan. 28 | 7 | 21
Coots | Same as for Other Ducks | 25 | 75
Canada and Cackling Geese:
Area 1 (15) | Oct. 14-Nov. 26 & | 4 | 12
| Dec. 9-Jan. 28 | 4 | 12
Area 2 Inland (16)(17) | Oct. 14-Oct. 29 & | 3 | 9
| Nov. 22-Jan. 14 & | 3 | 9
| Feb. 10-Mar. 6 | 3 | 9
Area 2 Coast (16)(17) | Oct. 14-Dec. 3 & | 3 | 9
| Dec. 20-Jan. 21 & | 3 | 9
| Feb. 10-Feb. 21 | 3 | 9
Area 3 (15) | Oct. 14-Oct. 26 & | 4 | 12
| Nov. 4-Jan. 28 | 4 | 12
Area 4 (15) | Oct. 14-Oct. 29 & | 4 | 12
| Nov. 1 only & | 4 | 12
| Nov. 4-Jan. 28 | 4 | 12
Area 5 (15) | Oct. 14-Oct. 30 & | 4 | 12
| Nov. 4-Jan. 28 | 4 | 12
White-fronted Geese:
Area 1 (15) | Same as for Canada and Cackling Geese | 10 | 30
Area 2 Inland (16) | Same as for Canada and Cackling Geese | 10 | 30
Area 2 Coast (16) | Same as for Canada and Cackling Geese | 10 | 30
Area 3 (15) | Same as for Canada and Cackling Geese | 10 | 30
Area 4 (15) | Same as for Canada and Cackling Geese | 10 | 30
Area 5 (15) | Same as for Canada and Cackling Geese | 10 | 30
Light Geese (18):
Area 1 (15) | Oct. 14-Nov. 26 & | 20 | 60
| Dec. 9-Jan. 28 & | 20 | 60
| Feb. 10-Feb. 20 | 20 | 60
Area 2 Inland (16) | Nov. 22-Jan. 14 & | 20 | 60
| Feb. 10-Mar. 6 | 20 | 60
Area 2 Coast (16) | Oct. 14-Dec. 3 & | 20 | 60
| Dec. 20-Jan. 21 & | 20 | 60
| Feb. 10-Feb. 21 | 20 | 60
Area 3 (15) | Oct. 14-Oct. 26 & | 20 | 60
| Nov. 4-Jan. 28 | 20 | 60
Area 4 (15) | Oct. 14-Oct. 22 & | 20 | 60
| Nov. 10-Jan. 28 & | 20 | 60
| Feb. 17-Mar. 3 | 20 | 60
Area 5 (15) | Oct. 14-Oct. 30 & | 20 | 60
| Nov. 4-Jan. 28 | 20 | 60
Brant (19):
Coastal Zone | Jan.6-Jan. 28 | 2 | 6
Puget Sound Zone | Jan. 13-Jan. 28 | 2 | 6
Wyoming:
Ducks:
Snake River and Balance of State Zones:
Scaup | Sept. 23-Dec. 17 | 2 | 6
Other Ducks | Sept. 23-Jan. 5 | 7 | 21
Coots | Same as for Other Ducks | 15 | 45
Dark Geese | Sept. 23-Dec. 28 | 5 | 15
Light Geese | Sept. 23-Dec. 28 | 10 | 30
(1) In Arizona, the daily bag limit may include no more than either 2 female mallards or 2 Mexican ducks, or 1 of each; and no more than 6 female mallards and Mexican ducks, in the aggregate, may be in possession. For black-bellied whistling-ducks, the daily bag limit is 1 and the possession limit is 3.
(2) In California, the daily bag and possession limits for Canada geese, cackling geese, and white-fronted geese are in the aggregate.
(3) In California, small Canada geese are cackling and Aleutian cackling geese, and large Canada geese are western and lesser Canada geese.
(4) In California, in the Northeastern Zone, the daily bag limit may include no more than 2 large Canada geese.
(5) The daily bag and possession limits for Canada and cackling geese and brant are in the aggregate.
(6) In Montana, check State regulations for special seasons and exceptions.
(7) In Nevada, youth 17 years of age or younger are allowed to hunt on October 21 on the Moapa Valley portion of Overton Wildlife Management Area (WMA). Youth must be accompanied by an adult who is 18 years of age or older.
(8) In Nevada, in the Northeast Zone, there is no open season on light geese in Ruby Valley within Elko and White Pine Counties.
(9) In Nevada, in the Northwest Zone, the season is closed in Mason Valley and Scripps WMAs and Washoe Lake State Park from February 19 to March 10.
(10) In Oregon, in the Northwest Permit Zone, see State regulations for specific dates, times, and conditions of permit hunts and closures.
(11) In Oregon, in the Northwest Permit Zone, the season for dusky Canada geese is closed.
(12) In Oregon, in Lake County, the daily bag and possession limits for white-fronted geese are 1 and 3, respectively.
(13) In Washington, the season for harlequin ducks is closed.
(14) In Washington, the daily bag limit in the West Zone may include no more than 2 scoters, 2 long-tailed ducks, and 2 goldeneyes, with the possession limit three times the daily bag limit.
(15) In Washington, in Areas 1, 3, and 5, hunting is allowed each day. In Area 4, hunting is allowed only on Saturdays, Sundays, Wednesdays, and certain holidays, except hunting is allowed each day only for light geese during the February and March portion of the season. See State regulations for details, including shooting hours.
(16) In Washington, in Areas 2 Inland and 2 Coast, see State regulations for specific dates, times, and conditions of permit hunts and closures.
(17) In Washington, in Areas 2 Inland and 2 Coast, the season for dusky Canada geese is closed.
(18) In Washington, the daily bag limit for light geese is 10 on or before January 30.
(19) In Washington, brant may be hunted in Clallam, Pacific, Skagit, and Watcom Counties only; see State regulations for specific dates.

(e) Youth and Veteran—Active Military Personnel Waterfowl Hunting Days.

The following seasons are open only to youth and veteran-active military personnel, except where noted. Youth must be accompanied into the field by an adult 18 years of age or older. This adult cannot duck hunt but may participate in other open seasons.

Limits: Bag limits may include ducks, geese, swans, mergansers, coots, and gallinules. The bag and possession limits are the same as those allowed in the regular season except in States that are allowed a daily bag limit of 1 or 2 scaup during different portions of the season, in which case the daily bag limit is 2 scaup per day and the possession limit is 4 scaup. Flyway species and area restrictions remain in effect.

Definitions

Youth: States may use their established definition of age for youth hunters. However, youth hunters may not be older than 17 years of age. Youth hunters 16 years of age and older must possess a Federal Migratory Bird Hunting and Conservation Stamp (also known as Federal Duck Stamp). Swans may be taken only by participants possessing applicable swan permits.

Veteran—Active Military Personnel: Veterans (as defined in section 101 of title 38, U.S. Code) and members of the Armed Forces on active duty, including members of the National Guard and Reserves on active duty (other than for training), may participate. All hunters must possess a Federal Migratory Bird Hunting and Conservation Stamp (also known as Federal Duck Stamp). Swans may be taken only by participants possessing applicable swan permits.

Area | Species | Season dates
ATLANTIC FLYWAY
Connecticut (1) | Ducks, mergansers, coots, geese, and brant | Sept. 30 & Nov. 4.
Delaware (1)(2)(3) | Ducks, mergansers, coots, geese, brant, and tundra swans | Oct. 21 & Feb. 3.
Florida: | Ducks, mergansers, coots, gallinules, Canada geese, and light geese |
Youth |  | Nov. 11 & Feb. 10.
Veteran-Active Military Personnel |  | Feb. 3 & 4.
Georgia | Ducks, mergansers, coots, gallinules, dark geese, and brant | Nov. 11 & 12.
Maine (1): | Ducks, mergansers, coots, geese, and brant |
North Zone |  | Sept. 16 & Dec. 9.
South Zone |  | Sept. 23 & Oct. 21.
Coastal Zone |  | Sept. 23 & Oct. 28.
Maryland (4)(5) | Ducks, mergansers, coots, geese, and brant | Nov. 4 & Feb. 3.
Massachusetts: | Ducks, mergansers, coots, Canada and cackling geese, and light geese |
Youth Hunters |  | Sept. 23 & Oct. 11.
Veteran-Active Military Personnel |  | Sept. 23 & Jan. 29.
New Hampshire (1) | Ducks, mergansers, coots, Canada and cackling geese, and brant | Sept. 23 & 24.
New Jersey: | Ducks, mergansers, coots, gallinules, geese, and brant |
Youth: |  |
North Zone |  | Oct. 7 & Feb. 3.
South Zone |  | Oct. 14 & Feb. 3.
Coastal Zone |  | Oct. 28 & Feb. 3.
Veteran-Active Military Personnel |  | Nov. 4 & Feb. 3.
New York: | Ducks, mergansers, coots, dark geese, and brant, |
Youth: |  |
Long Island Zone |  | Nov. 4 & 5.
Lake Champlain Zone |  | Sept. 23 & 24.
Northeastern Zone |  | Sept. 23 & 24.
Southeastern Zone |  | Sept. 23 & 24.
Western Zone |  | Sept. 30 & Oct. 1.
Veteran-Active Military Personnel: |  |
Long Island Zone |  | Nov. 11 & 12.
Northeastern Zone |  | Sept. 23 & 24.
Southeastern Zone |  | Oct. 23 & 24.
Western Zone |  | Oct. 7 & Jan. 20.
North Carolina (6)(3) | Ducks, mergansers, coots, geese, brant, and tundra swans | Feb. 3 & 10.
Pennsylvania (7): | Ducks, mergansers, coots, gallinules, dark geese, and brant |
Youth: |  |
North Zone |  | Sept. 23 & Nov. 4.
South Zone |  | Sept. 23 & Nov. 11.
Northwest Zone |  | Sept. 23 & Dec. 16.
Lake Erie Zone |  | Sept. 23 & Oct. 28.
Veteran-Active Military Personnel: |  |
North Zone |  | Nov. 4 & Jan. 13.
South Zone |  | Nov. 11 & Jan. 27.
Northwest Zone |  | Dec. 16 & Jan. 13.
Lake Erie Zone |  | Oct. 28 & Jan. 20.
Rhode Island (1) | Ducks, mergansers, coots, Canada and cackling geese, light geese, and brant | Oct. 28 & 29.
South Carolina | Ducks, mergansers, coots, gallinules, and geese | Feb. 3 & 10
Vermont (1) | Ducks, mergansers, coots, geese, and brant | Sept. 23 & 24.
Virginia (3) | Ducks, mergansers, coots, dark geese, and tundra swans | Oct. 21 & Feb. 3.
West Virginia (1) | Ducks, mergansers, coots, gallinules, geese, and brant | Sept. 16 & Nov. 4.
MISSISSIPPI FLYWAY
Alabama | Ducks, geese, mergansers, coots, and gallinules | Nov. 18 & Feb. 3.
Arkansas: | Ducks, geese, mergansers, coots, and gallinules |
Youth |  | Dec. 2 & Feb. 3.
Veteran-Active Military Personnel |  | Feb. 3 only.
Illinois (1): | Ducks, geese, mergansers, and coots |
North Zone |  | Oct. 14 & 15.
Central Zone |  | Oct. 21 & 22.
South Central Zone |  | Nov. 4 & 5.
South Zone |  | Nov. 25 & 26.
Indiana: | Ducks, geese, mergansers, and coots |
North Zone |  | Oct. 21 & 22
Central Zone |  | Oct. 28 & 29
South Zone |  | Nov. 4 & 5.
Iowa (1): | Ducks, mergansers, and coots |
North Zone |  | Sept. 23 & 24.
Central Zone |  | Sept. 30 & Oct. 1.
South Zone |  | Oct. 7 & 8.
Kentucky: | Ducks, geese, mergansers, coots, and gallinules |
Youth |  | Nov. 18 & Feb. 10.
Veteran-Active Military Personnel |  | Nov. 19 & Feb. 11.
Louisiana: | Ducks, geese, mergansers, coots, and gallinules |
East Zone |  | Nov. 11 & Feb. 3.
West Zone |  | Nov. 4 & 5.
Michigan | Ducks, geese, mergansers, coots, and gallinules | Sept. 16 & 17.
Minnesota (1) | Ducks, geese, mergansers, coots, and gallinules | Sept. 9 & 10.
Mississippi | Ducks, geese, mergansers, coots, and gallinules | Feb. 3 & 4.
Missouri (1): | Ducks, geese, mergansers, and coots |
North Zone |  | Oct. 21 & 22.
Middle Zone |  | Oct. 21 & 22.
South Zone |  | Nov. 18 & 19.
Ohio | Ducks, geese, mergansers, coots, and gallinules | Sept. 30 & Oct. 1.
Tennessee: |  |
Youth | Ducks, geese, mergansers, coots, and gallinules | Feb. 3 & 10.
Veteran-Active Military Personnel | Ducks, geese, mergansers, and coots | Feb. 4 & 11.
Wisconsin (1) | Ducks, geese, mergansers, coots, and gallinules | Sept. 16 & 17
CENTRAL FLYWAY
Colorado: | Ducks, dark geese, mergansers, and coots |
Mountain/Foothills Zone |  | Sept. 23 & 24.
Northeast Zone |  | Oct. 7 & 8.
Southeast Zone |  | Oct. 21 & 22.
Kansas (8): | Ducks, geese, mergansers, and coots |
High Plains |  | Sept. 30 & Oct. 1.
Low Plains: |  |
Early Zone |  | Sept. 30 & Oct. 1.
Late Zone |  | Oct. 21 & 22.
Southeast Zone |  | Nov. 4 & 5.
Montana (1) | Ducks, geese, mergansers, and coots | Sept. 23 & 24.
Nebraska (1)(9): | Ducks, dark geese, mergansers, and coots |
Zone 1 |  | Oct. 7 & 8.
Zone 2 |  | Sept. 30 & Oct. 1.
Zone 3 |  | Oct. 21 & 22.
Zone 4 |  | Oct. 21 & 22.
New Mexico (1): | Ducks, mergansers, coots, and gallinules |
North Zone |  | Sept. 23 & 24.
South Zone |  | Sept. 30 & Oct. 1.
North Dakota | Ducks, geese, mergansers, and coots | Sept. 16 & 17.
Oklahoma: | Ducks, geese, mergansers, and coots |
High Plains |  | Sept. 30 & Feb. 3.
Low Plains: |  |
Zone 1 |  | Nov. 4 & Feb. 3.
Zone 2 |  | Nov. 4 & Feb. 3.
South Dakota (1)(9) | Ducks, Canada and cackling geese, mergansers, and coots | Sept. 9 & 10.
Texas: | Ducks, geese, mergansers, coots, and gallinules |
High Plains |  | Oct. 21 & 22.
Low Plains: |  |
North Zone |  | Nov. 4 & 5.
South Zone |  | Oct. 28 & Oct. 29.
Wyoming: | Ducks, geese, mergansers, and coots |
Zone C1 |  | Sept. 23 & 24.
Zone C2 |  | Sept. 16 & 17.
Zone C3 |  | Sept. 16 & 17.
PACIFIC FLYWAY
Arizona (1) | Ducks, geese, mergansers, coots, and gallinules | Feb. 10 & 11.
California: |  |
Youth: | Ducks, geese, brant, mergansers, coots, and gallinules |
Northeastern Zone |  | Sept. 23 & 24.
Colorado River Zone |  | Feb. 10 & 11.
Southern Zone |  | Feb. 3 & 4.
Southern San Joaquin Valley Zone |  | Feb. 3 & 4.
Balance of State Zone |  | Feb. 3 & 4.
Veteran-Active Military Personnel: | Ducks, brant, mergansers, coots, and gallinules |
Northeastern Zone |  | Jan. 20 & 21.
Southern Zone |  | Feb. 10 & 11.
Southern San Joaquin Valley Zone |  | Feb. 10 & 11.
Balance of State Zone |  | Feb. 10 & 11.
Colorado: | Ducks, geese, mergansers, and coots |
East Zone |  | Sept. 23 & 24.
West Zone |  | Oct. 21 & 22.
Idaho | Ducks, geese, mergansers, and coots | Sept. 23 & 24.
Montana (1) | Ducks, geese, mergansers, and coots | Sept. 23 & 24.
Nevada (1)(3): | Ducks, geese, swans, mergansers, coots, and gallinules |
Northeast Zone |  | Sept. 16 & 17.
Northwest Zone |  | Sept. 30 & Feb. 10.
South Zone |  | Feb. 10 & 11.
New Mexico (1) | Ducks, mergansers, coots, and gallinules | Oct. 7 & 8.
Oregon | Ducks, geese, mergansers, and coots |
Youth |  | Sept. 30 & Oct. 1.
Veteran-Active Military Personnel |  | Feb. 3.
Utah (1)(3): | Ducks, dark geese, swans, mergansers, and coots |
Northern Zone |  | Sept. 23.
Southern Zone |  | Sept. 30.
Washington (10): | Ducks, geese, brant, mergansers, and coots |
Youth: |  |
East Zone |  | Sept. 30 & Feb. 3.
West Zone |  | Sept. 23 & Feb. 3.
Veteran-Active Military Personnel |  | Feb. 3.
Wyoming | Ducks, geese, mergansers, and coots | Sept. 16 & 17.
(1) The season is open to youth hunters only.
(2) In Delaware, tundra swans may be taken only on February 3.
(3) In Delaware, North Carolina, Virginia, Nevada, and Utah, the daily bag limit may not include swans except by permit.
(4) In Maryland, youth hunter(s) must be accompanied by an adult 21 years of age or older that holds a valid Maryland hunting license or is exempt from the hunting license requirements. One adult may take one or more young hunters, and that adult may call waterfowl, assist with decoys and retrieve downed birds but may not possess a hunting weapon and may not participate in other seasons that are open on the youth waterfowl hunting days. Active military and honorably discharged veterans, of any age, that possess a valid Maryland hunting license or are exempt from the hunting license requirements may also hunt waterfowl on November 4, 2023, and February 3, 2024. Active military and honorably discharged veterans at least 21 years of age or older may possess hunting weapons and hunt while also providing assistance to eligible youth hunters.
(5) In Maryland, the bag limit for Canada and cackling geese is 1 in the AP Zone and 5 in the RP Zone.
(6) In North Carolina, a permit is no longer required to hunt Canada geese or white-fronted geese in the Northeast Zone.
(7) In Pennsylvania, the second youth day in each duck zone is open to youth, veterans, and active-duty military.
(8) In Kansas, youth 17 years of age and younger may participate in the youth waterfowl hunting days.
(9) In Nebraska and South Dakota, Tier II license holders may take 3 ducks or mergansers of any species in the aggregate, and the possession limit is 9.
(10) In Washington, the brant and light goose seasons are closed in September.

8. Section 20.106 is revised to read as follows:

§ 20.106 Seasons, limits, and shooting hours for sandhill cranes.

Subject to the applicable provisions of the preceding sections of this part, areas open to hunting, respective open seasons (dates inclusive), shooting and hawking hours, and daily bag and possession limits on the species designated in this section are as follows:

Shooting and hawking hours are one-half hour before sunrise until sunset, except as otherwise noted. Area descriptions were published in the August 11, 2023, Federal Register (88 FR 54830).

Federally authorized, State-issued permits are issued to individuals, and only the individual whose name and address appears on the permit at the time of issuance is authorized to take sandhill cranes at the level allowed by the permit, in accordance with provisions of both Federal and State regulations governing the hunting season. The permit must be carried by the permittee when exercising its provisions and must be presented to any law enforcement officer upon request. The permit is not transferable or assignable to another individual, and may not be sold, bartered, traded, or otherwise provided to another person. If the permit is altered or defaced in any way, the permit becomes invalid.

CHECK STATE REGULATIONS FOR AREA DESCRIPTIONS AND ANY ADDITIONAL RESTRICTIONS.

Area | Season dates | Limits: Bag | Limits: Possession
MISSISSIPPI FLYWAY
Alabama (1)(2)
North Zone | Dec. 2-Jan. 7 & | 3 per season.
| Jan. 15-Jan. 30 | 3 per season.
Kentucky (1)(2) | Dec. 7-Jan. 31 | 2 | 3 per season.
Minnesota (1):
NW Zone | Sept. 16-Oct. 22 | 2 | 6.
Tennessee (1)(4):
Southeast Zone | Dec. 2-Jan. 30 | 2 per season.
Rest of State | Dec. 2-Jan. 30 | 2 per season.
CENTRAL FLYWAY
Colorado (1) | Sept. 30-Nov. 26 | 3 | 9.
Kansas (1)(2)(3)
West Zone | Oct. 21-Dec. 17 | 3 | 9.
Central Zone | Nov. 8-Jan. 4 | 3 | 9.
Montana:
Regular Season Area (1) | Sept. 30-Nov. 26 | 3 | 9.
Special Season Area (4) | Sept. 1-Oct. 30 | 2 per season.
New Mexico:
Regular Season Area (1) | Oct. 28-Jan. 28 | 3 | 6.
Middle Rio Grande Valley Area (4)(5) | Nov. 11-Nov. 12 & | 3 | 6 per season.
| Nov. 18 & | 3 per season.
| Nov. 25-Nov. 26 & | 3 | 6 per season.
| Dec. 9-Dec. 10 & | 3 | 6 per season.
| Jan. 6-Jan. 7 & | 3 | 6 per season.
| Jan. 13-Jan. 14 | 3 | 6 per season.
Southwest Area (4) | Oct. 28-Nov. 5 & | 3 | 6 per season.
| Jan. 6-Jan. 7 | 3 | 6 per season.
Estancia Valley (4)(6) | Oct. 28-Nov. 5 | 3 | 6.
North Dakota (1):
Area 1 | Sept. 16-Nov. 12 | 3 | 9.
Area 2 | Sept. 16-Nov. 12 | 2 | 6.
Oklahoma (1) | Oct. 21-Jan. 21 | 3 | 9.
South Dakota (1) | Sept. 23-Nov. 19 | 3 | 9.
Texas (1):
Zone A | Oct. 28-Jan. 28 | 3 | 9.
Zone B | Nov. 24-Jan. 28 | 3 | 9.
Zone C | Dec. 16-Jan. 21 | 2 | 6.
Wyoming:
Regular Season (Area 7) (1) | Sept. 9-Nov. 5 | 3 | 9.
Riverton-Boysen Unit (Area 4) (4) | Sept. 30-Oct. 22 | 1 per season.
Big Horn, Hot Springs, Park, and Washakie Counties (Area 6) (4) | Sept. 16-Oct. 8 | 1 per season.
Johnson, Natrona, and Sheridan Counties (Area 8) (4) | Sept. 1-Sept. 30 | 1 per season.
PACIFIC FLYWAY
Arizona (4): |
Zone 1 (7) | Nov. 10-Dec. 17 | 3 per season.
Zone 2 (8) | Dec. 8-Dec. 17 | 3 per season.
Zone 3 (9) | Nov. 25-Dec. 17 | 3 per season.
Idaho (4): |
Areas 1, 3, 4, 5, & 6 | Sept. 1-Sept. 30 | 2 per season.
Area 2 | Sept. 1-Sept. 15 | 2 per season.
Montana (4): |
Zones 1 & 5 | Sept. 1-Oct. 30 | 1 per season.
Zones 2, 3 & 4 | Sept. 1-Oct. 30 | 2 per season.
Utah (4): |
Cache County | Sept. 2-Sept. 10 | 1 per season.
East Box Elder County | Sept. 2-Oct. 31 | 1 per season.
Rich County | Sept. 2-Sept. 10 | 1 per season.
Uintah Basin Zone | Oct. 7-Dec. 5 | 1 per season.
Wyoming (4): |
Areas 1, 2, 3, & 5 | Sept. 1-Sept. 8 | 1 per season.
(1) Each person participating in the regular sandhill crane seasons must have a valid sandhill crane hunting permit and/or a State-issued Harvest Information Program (HIP) certification for game bird hunting in their possession while hunting.
(2) In Alabama, Kansas, and Kentucky, shooting hours are from sunrise to sunset.
(3) In Kansas, each person desiring to hunt sandhill cranes is required to pass an annual, online sandhill crane identification examination.
(4) Hunting is by State permit only. See State regulations for further information.
(5) In New Mexico, in the Middle Rio Grande Valley Area (Bernardo and Casa Colorado Wildlife Management Areas), the season is only open for youth hunters on November 18. See State regulations for further details.
(6) In New Mexico, in the Estancia Valley Area, the season will be closed to crane hunting on November 1.
(7) In Arizona, in Zone 1, season dates are November 10 to 12, November 17 to 19, November 21 to 23, November 25 to 27, November 29 to December 1, December 3 to 5, December 8 to 10, and December 15 to 17. November 10 to 12 is restricted to archery hunters only, and December 8 to 10 is restricted to youth hunters only.
(8) In Arizona, in Zone 2, season dates are December 8 to 10 and December 15 to 17.
(9) In Arizona, in Zone 3, season dates are November 25 to 27, November 29 to December 1, December 3 to 5, December 7 to 9, December 11 to 13, and December 15 to 17.

9. Section 20.107 is revised to read as follows:

§ 20.107 Seasons, limits, and shooting hours for swans.

Subject to the applicable provisions of the preceding sections of this part, areas open to hunting, respective open seasons (dates inclusive), shooting and hawking hours, and daily bag and possession limits on the species designated in this section are as follows:

Shooting hours are one-half hour before sunrise until sunset, except as otherwise restricted by State regulations. Shooting and hawking hours are one-half hour before sunrise until sunset, except as otherwise noted. Area descriptions were published in the August 11, 2023, Federal Register (88 FR 54830). Hunting is by State permit only.

Federally authorized, State-issued permits are issued to individuals, and only the individual whose name and address appears on the permit at the time of issuance is authorized to take swans at the level allowed by the permit, in accordance with provisions of both Federal and State regulations governing the hunting season. The permit must be carried by the permittee when exercising its provisions and must be presented to any law enforcement officer upon request. The permit is not transferable or assignable to another individual, and may not be sold, bartered, traded, or otherwise provided to another person. If the permit is altered or defaced in any way, the permit becomes invalid.

Note: Successful permittees must immediately validate their harvest by that method required in State regulations.

CHECK STATE REGULATIONS FOR ADDITIONAL RESTRICTIONS AND DELINEATIONS OF GEOGRAPHICAL AREAS. SPECIAL RESTRICTIONS MAY APPLY ON FEDERAL AND STATE PUBLIC HUNTING AREAS AND FEDERAL INDIAN RESERVATIONS.

Area | Season dates | Limits
ATLANTIC FLYWAY
Delaware | Nov. 11-Jan. 31 | 1 tundra swan per permit.
North Carolina | Nov. 4-Jan. 31 | 1 tundra swan per permit.
Virginia | Nov. 15-Jan. 31 | 1 tundra swan per permit.
CENTRAL FLYWAY (1)
Montana (2) | Sept. 30-Jan. 4 | 1 swan per permit.
North Dakota | Sept. 30-Dec. 31 | 1 tundra swan per permit.
South Dakota | Sept. 30-Jan. 12 | 1 swan per permit.
PACIFIC FLYWAY (1)
Idaho (2) | Oct. 7-Dec. 1 | 1 swan per season.
Montana (2) | Oct. 7-Dec. 1 | 1 swan per season.
Nevada (3)(4) | Oct. 14-Jan. 7 & | 2 swans per season.
| Jan. 10-Jan. 28 | 2 swans per season.
Utah (3)(4) | Oct. 7-Dec. 9 | 1 swan per season.
(1) See State regulations for description of area open to swan hunting.
(2) In Idaho and Montana, all harvested swans must be reported by way of a bill measurement card within 3 days of harvest.
(3) In Nevada and Utah, all harvested swans and tags must be checked or registered within 3 days of harvest.
(4) Harvests of trumpeter swans are limited to 20 in Utah and 10 in Nevada. When it has been determined that the quota of trumpeter swans allotted to Nevada and Utah have been filled, the season for taking of any swan species in the respective State will be closed by either the Director upon giving public notice through local information media at least 48 hours in advance of the time and date of closing, or by the State through State regulations with such notice and time (not less than 48 hours) as they deem necessary.

10. Section 20.109 is revised to read as follows:

§ 20.109 Extended seasons, limits, and hours for taking migratory game birds by falconry.

Subject to the applicable provisions of the preceding sections of this part, areas open to hunting, respective open seasons (dates inclusive), hawking hours, and daily bag and possession limits for the species designated in this section are prescribed as follows:

Hawking hours are one-half hour before sunrise until sunset except as otherwise restricted by State regulations.

Area descriptions were published in the August 11, 2023, Federal Register (88 FR 54830).

Limits: The daily bag limit may include no more than 3 migratory game birds in the aggregate. The possession limit is three times the daily bag limit. These limits apply to falconry during both regular hunting seasons and extended falconry seasons, unless further restricted by State regulations. The falconry bag and possession limits are not in addition to regular season limits.

Although many States permit falconry during the gun seasons, only extended falconry seasons are shown below. Please consult State regulations for details.

CHECK STATE REGULATIONS FOR ADDITIONAL RESTRICTIONS AND DELINEATIONS OF GEOGRAPHICAL AREAS. SPECIAL RESTRICTIONS MAY APPLY ON FEDERAL AND STATE PUBLIC HUNTING AREAS AND FEDERAL INDIAN RESERVATIONS.

Area | Extended falconry dates
ATLANTIC FLYWAY
Delaware:
Doves | Feb. 1-Feb. 20.
Rails | Nov. 25-Jan. 6.
Woodcock | Oct. 1-Nov. 3 & Feb. 1-Mar. 10.
Ducks, mergansers, and coots | Feb. 1-Mar. 6.
Brant | Feb. 1-Feb. 24.
Florida:
Doves | Feb. 1-Feb. 17.
Rails | Nov. 10-Dec. 16.
Woodcock | Nov. 24-Dec. 17 & Feb. 1-Mar. 9.
Gallinules | Nov. 10-Dec. 13.
Ducks, mergansers, and coots | Nov. 3-Nov. 12 & Feb. 5-Feb. 29.
Georgia:
Ducks, Canada and cackling geese, white-fronted geese, brant, and gallinules | Nov. 27-Dec. 2.
Maine:
Ducks, geese, and brant:
North Zone | Dec. 18-Feb. 7.
South & Coastal Zones | Jan. 10-Mar. 1.
Maryland:
Doves | Jan. 12-Jan. 31.
Rails | Nov. 22-Jan. 3.
Woodcock | Oct. 1-Oct. 20 & Jan. 29-Mar. 9.
Ducks | Feb. 1-Mar. 9.
Brant | Feb. 1-Mar. 9.
Light Geese | Feb. 23-Mar. 9.
Massachusetts:
Ducks, mergansers, and coots | Nov. 23 & Jan. 29-Feb. 9.
New Hampshire:
Ducks, mergansers, and coots:
Northern Zone | Dec. 1-Jan. 14.
Inland Zone | Nov. 4-Nov. 21 & Dec. 22-Jan. 17.
Coastal Zone | Jan. 26-Mar. 10.
New Jersey:
Woodcock:
North Zone | Oct. 2-Oct. 13 & Nov. 27-Jan. 31.
South Zone | Oct. 2-Nov. 10 & Dec. 4-Dec. 13 & Jan. 3-Jan. 31.
Ducks, mergansers, coots, and brant:
North Zone | Jan. 18-Mar. 9.
South Zone | Jan. 19-Mar. 9.
Coastal Zone | Jan. 29-Mar. 9.
New York:
Ducks, mergansers, and coots:
Long Island Zone | Nov. 1-Nov. 17 & Nov. 27-Dec. 8 & Jan. 29-Feb. 13.
Northeastern Zone | Oct. 1-Oct. 6 & Oct. 30-Nov. 3 & Dec. 11-Jan. 13.
Southeastern Zone | Oct. 1-Oct. 20 & Dec. 4-Dec. 8 & Dec. 25-Jan. 30.
Western Zone | Oct. 1-Oct. 20 & Nov. 13-Nov. 24 & Jan. 1-Jan. 13.
North Carolina:
Doves | Oct. 9-Oct. 21.
Rails and gallinules | Dec. 9-Jan. 13.
Woodcock | Dec. 1-Dec. 9 & Feb. 3-Feb. 24.
Ducks, mergansers, and coots | Oct. 2-Oct. 14 & Feb. 1-Feb. 10.
Pennsylvania:
Doves | Nov. 25-Dec. 14.
Rails | Nov. 22-Jan. 3.
Woodcock and snipe | Sept. 1-Oct. 13 & Nov. 25-Dec. 9 & Dec. 21-Jan. 3.
Gallinules | Nov. 22-Dec. 31.
Ducks, mergansers, and coots:
North Zone | Oct. 23-Nov. 13 & Feb. 9-Mar. 9.
South Zone | Oct. 16-Nov. 20 & Feb. 23-Mar. 9.
Northwest Zone | Dec. 4-Dec. 25 & Feb. 9-Mar. 9.
Lake Erie Zone | Jan. 18-Mar. 9.
Canada, cackling, and white-fronted geese:
AP Zone | Jan. 24-Mar. 9.
RP Zone | Mar. 5-Mar. 9.
South Carolina:
Ducks, mergansers, and coots | Oct. 30-Nov. 17 & Dec. 1-Dec. 11.
Virginia:
Doves | Jan. 21-Jan. 31.
Rails, gallinules | Nov. 6-Nov. 12 & Nov. 27-Dec. 26.
Woodcock | Oct. 17-Nov. 9 & Nov. 28-Dec. 25 & Jan. 22-Jan. 31.
Ducks, mergansers, and coots | Nov. 27-Dec. 18 & Feb. 1-Feb. 9.
Canada, cackling, and white-fronted geese:
Eastern (AP) Zone | Nov. 15-Nov. 21 & Dec. 19-Dec. 22 & Feb. 1-Feb. 24.
Brant | Oct. 17-Dec. 22 & Jan. 1-Jan. 10.
MISSISSIPPI FLYWAY
Arkansas:
Ducks, mergansers, and coots | Feb. 1-Feb. 15.
Illinois:
Doves | Nov. 15-Dec. 1.
Rails | Sept. 1-Sept. 8 & Nov. 18-Dec. 16.
Woodcock | Sept. 1-Oct. 20 & Dec. 5-Dec. 16.
Ducks, mergansers, and coots | Feb. 10-Mar. 9.
Indiana:
Doves | Oct. 17-Oct. 31 & Jan. 6-Jan. 7.
Woodcock | Sept. 20-Oct. 14 & Nov. 29-Jan. 4.
Ducks, mergansers, and coots:
North Zone | Sept. 27-Sept. 30 & Feb. 14-Mar. 9.
Central Zone | Oct. 28-Nov. 3 & Feb. 17-Mar. 9.
South Zone | Nov. 4-Nov. 10 & Feb. 17-Mar. 9.
Iowa:
Ducks, mergansers, and coots | Jan. 6-Feb. 3.
Kentucky:
Ducks, mergansers, and coots | Nov. 27-Dec. 6 & Feb. 1-Feb. 25.
Louisiana:
Doves | Sept. 15-Oct. 1.
Rails and gallinules:
East Zone | Nov. 4-Nov. 17 & Jan. 4-Jan. 25.
West Zone | Nov. 4-Nov. 11 & Jan. 4-Jan. 25.
Woodcock | Nov. 4-Dec. 17.
Ducks:
East Zone | Nov. 4-Jan. 31.
West Zone | Nov. 4-Jan. 31.
Michigan:
Ducks, mergansers, coots, and gallinules | Jan. 1-Jan. 14 & Feb. 24-Mar. 10.
Minnesota:
Doves | Nov. 30-Dec. 16.
Rails and snipe | Nov. 7-Dec. 16.
Woodcock | Sept. 1-Sept. 22 & Nov. 7-Dec. 16.
Ducks, mergansers, coots, and gallinules | Dec. 9-Jan. 22.
Mississippi:
Doves | Dec. 6-Dec. 22.
Ducks, mergansers, and coots | Feb. 1-Feb. 29.
Missouri:
Doves | Nov. 30-Dec. 16.
Ducks, mergansers, and coots | Sept. 9-Sept. 24 & Feb. 11-Mar. 10.
Tennessee:
Doves | Sept. 29-Sept. 30 & Jan. 16-Jan. 30.
Rails | Nov. 10-Dec. 14.
Woodcock | Nov. 1-Nov. 10 & Dec. 4-Jan. 9 & Feb. 1-Feb. 15.
Snipe | Nov. 14-Feb. 28.
Gallinules | Nov. 10-Dec. 14.
Ducks, mergansers, and coots:
Reelfoot Zone | Nov. 27-Dec. 4 & Feb. 1-Feb. 28.
Remainder of the State | Nov. 27-Dec. 4 & Feb. 1-Feb. 28.
Wisconsin:
Rails, snipe, and gallinules:
North Zone | Sept. 1-Sept. 22 & Nov. 22-Dec. 3.
South Zone | Sept. 1-Sept. 29 & Oct. 9-Oct. 13.
Open Water Zone | Sept. 1-Oct. 13.
Woodcock | Sept. 1-Sept. 22 & Nov. 7-Dec. 16.
Ducks, mergansers, and coots | Sept. 16-Sept. 17 & Jan. 13-Feb. 17.
CENTRAL FLYWAY
Kansas:
Ducks, mergansers, and coots:
Low Plains: Early Zone | Feb. 25-Mar. 10.
Low Plains: Late Zone | Feb. 25-Mar. 10.
Southeast Zone | Feb. 25-Mar. 10.
Montana (1):
Ducks, mergansers, and coots:
Zone 1 | Sept. 20-Sept. 29.
Zone 2 | Sept. 20-Sept. 29.
Nebraska:
Ducks, mergansers, and coots:
Zone 1 | Feb. 25-Mar. 10.
Zone 2 | Feb. 25-Mar. 10.
Zone 3 | Closed.
Zone 4 | Feb. 25-Mar. 10.
New Mexico:
Doves:
North Zone | Nov. 30-Dec. 4 & Dec. 21-Jan. 1.
South Zone | Oct. 29-Nov. 5 & Nov. 22-Nov. 30.
Band-tailed pigeons:
North Zone | Sept. 1-Sept. 14.
South Zone | Oct. 1-Oct. 14.
Ducks and coots | Sept. 9-Sept. 17.
Sandhill cranes (2) | Oct. 14-Oct. 27 & Nov. 6-Dec. 26.
Gallinules | Nov. 18-Dec. 24.
Sora and Virginia rails | Nov. 18-Dec. 24.
North Dakota:
Ducks, mergansers, coots, and snipe | Sept. 1 & Sept. 4-Sept. 8.
Oklahoma:
Doves | Feb. 18-Mar. 5.
Ducks, mergansers, and coots:
Low Plains Zones 1 and 2 | Feb. 12-Feb. 26.
Gallinules and rails | Feb. 1-Mar. 8.
Woodcock | Dec. 12-Feb. 11.
Sandhill cranes | Jan. 22-Feb. 4.
South Dakota:
Ducks, mergansers, and coots:
High Plains | Sept. 1-Sept. 8.
Low Plains:
North Zone | Sept. 1-Sept. 22 & Dec. 6-Dec. 14.
Middle Zone | Sept. 1-Sept. 22 & Dec. 6-Dec. 14.
South Zone | Oct. 1-Oct. 20 & Jan. 3-Jan. 13.
Texas:
Doves | Nov. 17-Dec. 3.
Rails, gallinules, and woodcock | Jan. 29-Feb. 12.
Ducks, mergansers, and coots:
Low Plains—North and South Zones | Jan. 29-Feb. 12.
Wyoming:
Doves | Nov. 30-Dec. 16.
Rails | Nov. 10-Dec. 16.
Ducks, mergansers, and coots
Zone C1 | Sept. 23-Sept. 24 & Oct. 18-Oct. 25.
Zone C2 | Sept. 18-Sept. 22 & Dec. 4-Dec. 6.
Zone C3 | Same as Zone C2.
PACIFIC FLYWAY
Arizona:
Doves | Sept. 16-Nov. 1.
Ducks, mergansers, coots, and gallinules | Feb. 1-Feb. 4.
California:
Ducks, mergansers, coots, and gallinules:
Colorado River Zone | Feb. 1-Feb. 4.
Idaho:
Doves | Jan. 24-Mar. 10.
New Mexico:
Doves:
North Zone | Nov. 30-Dec. 4 & Dec. 21-Jan. 1.
South Zone | Oct. 29-Nov. 5 & Nov. 22-Nov. 30.
Oregon:
Doves:
Zone 1 | Oct. 1-Nov. 14 & Dec. 15-Dec. 16.
Zone 2 | Oct. 31-Dec. 16.
Band-tailed pigeons (3) | Sept. 1-Sept. 14 & Sept. 24-Dec. 16.
Utah:
Doves | Oct. 31-Dec. 16.
Band-tailed pigeons | Oct. 31-Dec. 16.
Washington:
Doves | Oct. 31-Dec. 16.
Ducks, mergansers, coots, and dark geese:
East Zone | Sept. 30 & Feb. 3.
West Zone | Sept. 23 & Feb. 3.
Light geese and brant | Feb. 3.
Wyoming:
Doves | Nov. 30-Dec. 16.
Sora and Virginia rails | Nov. 10-Dec. 16.
Ducks, mergansers, and coots | Sept. 16-Sept. 17.
(1) In Montana, the limits are 2 daily and 6 in possession.
(2) In New Mexico, the limits for sandhill cranes are 3 daily and 6 in possession.
(3) In Oregon, no more than 1 pigeon daily in bag or possession.

[FR Doc. 2023-17684 Filed 8-17-23; 8:45 am]

BILLING CODE 4333-15-P